DEPARTMENT OF COMMERCE

National Oceanic and Atmospheric Administration

RIN 0648-XF329

Takes of Marine Mammals Incidental to Specified Activities; Taking Marine Mammals Incidental to a Low-Energy Geophysical Survey in the Northeastern Pacific Ocean

AGENCY: National Marine Fisheries Service (NMFS), National Oceanic and Atmospheric Administration (NOAA), Commerce.

ACTION: Notice; proposed incidental harassment authorization; request for comments.

SUMMARY: NMFS has received a request from the Scripps Institution of Oceanography (SIO) for authorization to take marine mammals incidental to a low-energy marine geophysical survey in the northeastern Pacific Ocean. Pursuant to the Marine Mammal Protection Act (MMPA), NMFS is requesting comments on its proposal to issue an incidental harassment authorization (IHA) to incidentally take marine mammals during the specified activities. NMFS will consider public comments prior to making any final decision on the issuance of the requested MMPA authorization and agency responses will be summarized in the final notice of our decision.

DATES: Comments and information must be received no later than September 18, 2017.

ADDRESSES: Comments should be addressed to Jolie Harrison, Chief, Permits and Conservation Division, Office of Protected Resources, National Marine Fisheries Service. Physical comments should be sent to 1315 East-West Highway, Silver Spring, MD 20910 and electronic comments should be sent to ITP.Carduner@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at www.nmfs.noaa.gov/pr/permits/incidental/research.htm without change. All personal identifying information (e.g., name, address) voluntarily submitted by the commenter may be publicly accessible. Do not submit confidential business information or otherwise sensitive or protected information.

FOR FURTHER INFORMATION CONTACT: Jordan Carduner, Office of Protected Resources, NMFS, (301) 427-8401. Electronic copies of the application and supporting documents, as well as a list of the references cited in this document, may be obtained online at: www.nmfs.noaa.gov/pr/permits/incidental/research.htm. In case of problems accessing these documents, please call the contact listed above.

SUPPLEMENTARY INFORMATION:

Background

Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth.

NMFS has defined “negligible impact” in 50 CFR 216.103 as an impact resulting from the specified activity that cannot be reasonably expected to, and is not reasonably likely to, adversely affect the species or stock through effects on annual rates of recruitment or survival.

The MMPA states that the term “take” means to harass, hunt, capture, kill or attempt to harass, hunt, capture, or kill any marine mammal.

Except with respect to certain activities not pertinent here, the MMPA defines “harassment” as: Any act of pursuit, torment, or annoyance which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

National Environmental Policy Act

To comply with the National Environmental Policy Act of 1969 (NEPA; 42 U.S.C. 4321 et seq.) and NOAA Administrative Order (NAO) 216-6A, NMFS must review our proposed action (i.e., the issuance of an incidental harassment authorization) with respect to potential impacts on the human environment. Accordingly, NMFS is preparing an Environmental Assessment (EA) to consider the environmental impacts associated with the issuance of the proposed IHA. NMFS' EA is available at www.nmfs.noaa.gov/pr/permits/incidental/research.htm. We will review all comments submitted in response to this notice prior to concluding our NEPA process or making a final decision on the IHA request.

Summary of Request

On March 20, 2017, NMFS received a request from SIO for an IHA to take marine mammals incidental to conducting a low-energy marine geophysical survey in the northeastern Pacific Ocean. On July 5, 2017, we deemed SIO's application for authorization to be adequate and complete. SIO's request is for take of a small number of 27 species of marine mammals by Level B harassment and Level A harassment. Neither SIO nor NMFS expects mortality to result from this activity, and, therefore, an IHA is appropriate. The planned activity is not expected to exceed one year, hence, we do not expect subsequent MMPA incidental harassment authorizations would be issued for this particular activity.

Description of Proposed Activity

Overview

SIO proposes to conduct a low-energy marine seismic survey offshore Oregon and Washington in the northeastern Pacific Ocean over the course of five days in September 2017. The proposed survey would occur off the Oregon continental margin out to 127.5° W. and between ~43 and 46.5° N. (See Figure 1 in IHA application). Water depths in the survey area are ~130-2600 m. The proposed survey would involve one source vessel, the R/V Roger Revelle. The Revelle would tow a pair of 45 cubic inch (in³) airguns with a total discharge volume of ~90 in³ as an energy source along predetermined lines.

Dates and Duration

The seismic survey would be carried out for five days. The Revelle would likely depart from Newport, Oregon, on or about September 22, 2017 and would return to Newport on or about September 29, 2017. Some deviation in timing could result from unforeseen events such as weather, logistical issues, or mechanical issues with the research vessel and/or equipment. Seismic activities would occur 24 hours per day during the proposed survey.

Specific Geographic Region

The survey would occur in the northeastern Pacific Ocean off the Oregon continental margin out to 127.5° W. and between ~43 and 46.5° N. Two potential survey areas off the Oregon continental margin have been proposed (See Figure 1 in IHA application). One potential survey area, referred to by SIO as the Astoria Fan area, is located off northern Oregon off the mouth of the Columbia River and near the Astoria Canyon. The other potential survey area, referred to as the southern Oregon area, is located off the southern Oregon margin. Both the proposed Astoria Fan and Southern Oregon survey areas are located at least 23 kilometers (km) from the U.S. west coast over water depths ~130-2600 meters (m). SIO will ultimately select one of these two potential areas for the survey (i.e., both areas will not be surveyed). Representative survey track lines for both potential survey areas are shown in Figure 1 of the IHA application. The Revelle would depart from Newport, Oregon and return to Newport at the conclusion of the survey.

Detailed Description of Specific Activity

SIO plans to conduct a low-energy seismic survey off the coasts of Oregon and Washington. The proposed surveys involve an Early Career Seismic Chief Scientist Training Cruise which aims to train scientists on how to effectively plan seismic surveys, acquire data, and manage activities at sea. In addition, the survey would provide critical data to understand the sediment and crustal structure within the Cascadia continental margin. The proposed survey would take place on the active continental margin of the U.S. west coast where a variety of sedimentary and tectonic settings are available, providing many targets of geologic interest to a wide range of research cruise participants.

The procedures to be used for the seismic survey would be similar to those used during previous seismic surveys by SIO and would use conventional seismic methodology. The survey would involve one source vessel, the R/V Roger Revelle. The Revelle would deploy a pair of 45-in³ GI airguns as an energy source with a total discharge volume of ~90 in³. The receiving system would consist of one 800-m hydrophone streamer. As the airguns are towed along the survey lines, the hydrophone streamer would receive the returning acoustic signals and transfer the data to the on-board processing system.

Two potential sites off the Oregon continental margin, referred to by SIO as the Astoria Fan and southern Oregon sites, have been proposed for the survey (see Figure 1 in the IHA application). Only one of the two sites will be surveyed. Each of the proposed survey sites has several science targets. The southern Oregon survey includes the paleo objectives, a long plate transect that crosses Diebold Knoll, and a detailed survey of the megaslump segment of the Cascadia subduction zone, which has no previous seismic data. The Astoria Fan survey includes flexure, accretionary wedge mechanisms and gas hydrates as objectives; it covers a major seismic gap. The scientists on board would be responsible for modifying the survey to fit the allocated cruise length while meeting the project objectives, including choosing which survey or what portion of each survey to conduct.

The total line km for the Southern Oregon survey would be 1013 km, ~5 percent of which would be in intermediate water (100-1000 m), with the remainder in water deeper than 1000 m. The total length for the Astoria Fan survey would be 1057 km, with ~23 percent of line km in intermediate water and the remainder in water >1000 m. No effort during either survey would occur in shallow water <100 m deep. For purposes of this proposed IHA, the total track distance to be surveyed is estimated to be no greater than ~1057 km, which is the line km of the longer of the two potential surveys. There would be additional seismic operations in the survey area associated with airgun testing and repeat coverage of any areas where initial data quality is sub-standard. To account for these additional seismic operations, 25 percent has been added in the form of operational days, which is equivalent to adding 25 percent to the proposed line km to be surveyed.

In addition to the operations of the airgun array, a multibeam echosounder (MBES) and a sub-bottom profiler (SBP) would also be operated from the Revelle continuously throughout the seismic survey, but not during transits to and from the project area. All planned geophysical data acquisition activities would be conducted by SIO with on-board assistance by the scientists who have proposed the study. The vessel would be self-contained, and the crew would live aboard the vessel for the entire cruise.

The Revelle has a length of 83 m, a beam of 16.0 m, and a maximum draft of 5.2 m. The ship is powered by two 3,000 horsepower Propulsion General Electric motors and an 1180-hp azimuthing jet bow thruster. An operation speed of 9.3 km/h (5 knots (kt)) would be used during seismic acquisition. When not towing seismic survey gear, the Revelle cruises at 22.2-23.1 km/h (12-12.5 kt) and has a maximum speed of 27.8 km/h (15 kt). The Revelle would also serve as the platform from which vessel-based protected species observers (PSOs) would watch for marine mammals during airgun operations.

During the survey, The Revelle would tow a pair of 45-in³ GI airguns and an 800 m streamer containing hydrophones along predetermined lines. Seismic pulses would be emitted at intervals of ~8-10 seconds (s) (20-25 m). The generator chamber of each GI gun, the one responsible for introducing the sound pulse into the ocean, is 45 in³. The two 45-in³ GI guns would be towed 21 m behind the Revelle, 2 m apart side by side, at a depth of 3 m. As the airguns are towed along the survey lines, the towed hydrophone array in the 800 m streamer would receive the reflected signals and transfer the data to the onboard processing system.

Table 1—Specifications of the R/V Revelle Airgun Array
Number of airguns | 2.
Tow depth of energy source | 3 m.
Dominant frequency components | 0-188 Hz.
Total volume | ~90 in³.
Shot interval | 7.8 seconds.

Proposed mitigation, monitoring, and reporting measures are described in detail later in this document (please see “Proposed Mitigation” and “Proposed Monitoring and Reporting”).

Description of Marine Mammals in the Area of Specified Activities

Section 4 of the application summarizes available information regarding status and trends, distribution and habitat preferences, and behavior and life history, of the potentially affected species. Additional information regarding population trends and threats may be found in NMFS' Stock Assessment Reports (SAR; www.nmfs.noaa.gov/pr/sars/), and more general information about these species (e.g., physical and behavioral descriptions) may be found on NMFS' Web site (www.nmfs.noaa.gov/pr/species/mammals/).

Table 2 lists all species with expected potential for occurrence in the northeastern Pacific Ocean and summarizes information related to the population or stock, including regulatory status under the MMPA and ESA and potential biological removal (PBR), where known. For taxonomy, we follow Committee on Taxonomy (2016). PBR is defined by the MMPA as the maximum number of animals, not including natural mortalities, that may be removed from a marine mammal stock while allowing that stock to reach or maintain its optimum sustainable population (as described in NMFS' SARs). While no mortality is anticipated or authorized here, PBR and annual serious injury and mortality from anthropogenic sources are included here as gross indicators of the status of the species and other threats.

Marine mammal abundance estimates presented in this document represent the total number of individuals that make up a given stock or the total number estimated within a particular study or survey area. NMFS' stock abundance estimates for most species represent the total estimate of individuals within the geographic area, if known, that comprises that stock. For some species, this geographic area may extend beyond U.S. waters. All managed stocks in this region are assessed in NMFS' U.S. Pacific SARs (e.g., Carretta et al. 2017). All values presented in Table 2 are the most recent available at the time of publication and are available in the 2017 SARs (Carretta et al. 2017), available online at: www.nmfs.noaa.gov/pr/sars, except where noted otherwise.

Table 2—Marine Mammals That Could Occur in the Project Area
Species | Stock | ESA/MMPA status; strategic (Y/N) ¹ | Stock abundance ² (CV, Nmin, most recent abundance survey) ³ | PBR ⁴ | Relative occurrence in project area
Order Cetartiodactyla—Cetacea—Superfamily Mysticeti (baleen whales)
Family: Balaenopteridae
North Pacific right whale ⁵ (Eubalaena japonica) | Eastern North Pacific | E/D; Y | 31 | 0.1 | Rare.
Gray whale ⁵ (Eschrichtius robustus) | Eastern North Pacific | -/-; N | 20,990 (0.05; 20,125; 2011) | 3.1 | Common in nearshore areas, rare elsewhere.
Humpback whale ⁶ (Megaptera novaeangliae) | California/Oregon/Washington | E/T/D; N | 1,918 (0.03; 1,876; 2014) | 11 | Common in nearshore areas, rare elsewhere.
Minke whale (Balaenoptera acutorostrata) | California/Oregon/Washington | -/-; N | 636 (0.72; 369; 2014) | 3.5 | Rare.
Sei whale (Balaenoptera borealis) | Eastern N Pacific | E/D; Y | 519 (0.4; 374; 2014) | 0.75 | Rare.
Fin whale (Balaenoptera physalus | California/Oregon/Washington | E/D; Y | 9,029 (0.12; 8,127; 2014) | 81 | Common.
Blue whale (Balaenoptera musculus) | Eastern N Pacific | E/D; Y | 1,647 (0.07; 1,551; 2011) | 2.3 | Rare.
Order Cetartiodactyla—Cetacea—Superfamily Odontoceti (toothed whales, dolphins, and porpoises)
Family: Physeteridae
Sperm whale (Physeter macrocephalus) | California/Oregon/Washington | E/D; Y | 2,106 (0.58; 1,332; 2014). | 2.7 | Common.
Order Cetartiodactyla—Cetacea—Superfamily Odontoceti (toothed whales, dolphins, and porpoises)
Family: Kogiidae
Pygmy sperm whale (Kogia breviceps) | California/Oregon/Washington | -/-; N | 4,111 (1.12; 1,924; 2014) | 19 | Rare.
Dwarf sperm whale (Kogia sima) | California/Oregon/Washington | -/-; N | unknown (unknown; unknown; 2014) | Undet | Rare.
Order Cetartiodactyla—Cetacea—Superfamily Odontoceti (toothed whales, dolphins, and porpoises)
Family delphinidae
Killer whale (Orcinus orca) | West coast transient | -/-; N | 243 (n/a; 243; 2009) | 2.4 | Rare.
| Eastern North Pacific offshore | -/-; N | 240 (0.49; 162; 2014) | 1.6 | Rare.
False killer whale ⁷ (Pseudorca crassidens) | Hawaii Pelagic | -/-; N | 1,540 (0.66; 928; 2010) | 9.3 | Rare.
Short-finned pilot whale (Globicephala macrorhynchus) | California/Oregon/Washington | -/-; N | 836 (0.79; 466; 2014) | 4.5 | Rare.
Harbor porpoise (Phocoena phocoena) | Northern Oregon/Washington Coast | -/-; N | 21,487 (0.44; 15,123; 2011) | 151 | Abundant.
| Northern California/Southern Oregon | -/-; N | 35,769 (0.52; 23,749; 2011) | 475 | Abundant.
Dall's porpoise (Phocoena dalli) | California/Oregon/Washington | -/-; N | 25,750 (0.45; 17,954; 2014) | 172 | Abundant.
Bottlenose dolphin (Tursiops truncatus) | California/Oregon/Washington Offshore | -/-; N | 1,924 (0.54; 1,255; 2014) | 11 | Rare.
Striped dolphin (Stenella coeruleoala) | California/Oregon/Washington | -/-; N | 29,211 (0.2; 24,782; 2014) | 238 | Rare.
Risso's dolphin (Grampus griseus) | California/Oregon/Washington | -/-; N | 6,336 (0.32; 4,817; 2014) | 46 | Common.
Short-beaked common dolphin (Delphinus delphis) | California/Oregon/Washington | -; N | 969,861 (0.17; 839,325; 2014) | 8,393 | Common.
Pacific white-sided dolphin (Lagenorhynchus obliquidens) | California/Oregon/Washington | -; N | 26,814 (0.28; 21,195; 2014) | 191 | Abundant.
Northern right whale dolphin (Lissodelphis borealis) | California/Oregon/Washington | -; N | 26,556 (0.44; 18,608; 2014) | 179 | Common.
Order Cetartiodactyla—Cetacea—Superfamily Odontoceti (toothed whales, dolphins, and porpoises)
Family: Ziphiidae
Cuvier's beaked whale (Ziphius cavirostris) | California/Oregon/Washington | -/-; N | 6,590 (0.55; 4,481; 2008) | 45 | Common.
Baird's beaked whale (Berardius bairdii) | California/Oregon/Washington | -; N | 847 (0.81; 466; 2008) | 4.7 | Common.
Mesoplodont beaked whales ⁸ | California/Oregon/Washington | -/-; N | 694 (0.65; 389; 2008) | 3.9 | Rare.
Order Carnivora—Superfamily Pinnipedia
Family Otariidae (eared seals and sea lions)
California sea lion (Zalophus californianus) | U.S. | -; N | 296,750 (n/a; 153,337; 2011) | 9,200 | Rare.
Steller sea lion (Eumetopias jubatus) | Eastern U.S. | -; N | 41,638 (n/a; 41,638; 2015) | 2,498 | Common in nearshore areas, rare elsewhere.
Family Phocidae (earless seals)
Harbor seal ⁹ (Phoca vitulina) | Oregon/Washington Coast | -; N | 24,732 (unk; unk; n/a) | Unknown | Common in nearshore areas, rare elsewhere.
Northern elephant seal (Mirounga angustirostris) | California breeding | -; N | 179,000 (n/a; 81,368; 2010) | 4,882 | Common in nearshore areas, rare elsewhere.
Northern fur seal (Callorhinus ursinus) | California | -; N | 14,050 (n/a; 7,524; 2013) | 451 | Common in nearshore areas, rare elsewhere.
¹ Endangered Species Act (ESA) status: Endangered (E), Threatened (T)/MMPA status: Depleted (D). A dash (-) indicates that the species is not listed under the ESA or designated as depleted under the MMPA. Under the MMPA, a strategic stock is one for which the level of direct human-caused mortality exceeds PBR (see footnote 3) or which is determined to be declining and likely to be listed under the ESA within the foreseeable future. Any species or stock listed under the ESA is automatically designated under the MMPA as depleted and as a strategic stock.
² Abundance estimates from Carretta et al. (2017) unless otherwise noted.
³ CV is coefficient of variation; Nmin is the minimum estimate of stock abundance. In some cases, CV is not applicable. For certain stocks, abundance estimates are actual counts of animals and there is no associated CV. The most recent abundance survey that is reflected in the abundance estimate is presented; there may be more recent surveys that have not yet been incorporated into the estimate.
⁴ Potential biological removal (PBR), defined by the MMPA as the maximum number of animals, not including natural mortalities, that may be removed from a marine mammal stock while allowing that stock to reach or maintain its optimum sustainable population size (OSP).
⁵ Values for gray whale and North Pacific right whale are from Muto et al. 2016.
⁶ Humpback whales in the survey area could originate from either the ESA threatened Mexico DPS or from the ESA endangered Central America DPS.
⁷ NMFS does not have a defined stock for false killer whales off the West Coast of the U.S. as they are considered uncommon visitors to the area; any false killer whales observed off the West Coast of the U.S. would likely be part of the eastern North Pacific population. Of the stocks defined by NMFS, the Hawaii Pelagic stock is the most likely to include individuals in the eastern North Pacific population.
⁸ Includes the following species: Blainville's beaked whale (M. densirostris), Perrin's beaked whale (M. perrini), Lesser beaked whale (M. peruvianus), Stejneger's beaked whale (M. stejnegeri), Gingko-toothed beaked whale (M. gingkodens), and Hubbs' beaked whale (M. carlhubbsi).
⁹ The most recent abundance estimate is from 1999. This is the best available information, but because this abundance estimate is >8 years old, there is no current estimate of abundance available for this stock.

All species that could potentially occur in the proposed survey area are included in Table 2. However, as described below, the spatial occurrence of the North Pacific right whale and dwarf sperm whale are such that take is not expected to occur for these species. The North Pacific right whale is one of the most endangered species of whale in the world (Carretta et al. 2017). Only 82 sightings of right whales in the entire eastern North Pacific were reported from 1962 to 1999, with the majority of these occurring in the Bering Sea and adjacent areas of the Aleutian Islands (Brownell et al. 2001). Most sightings in the past 20 years have occurred in the southeastern Bering Sea, with a few in the Gulf of Alaska (Wade et al. 2011). Despite many miles of systematic aerial and ship-based surveys for marine mammals off the coasts of Washington, Oregon and California over several years, only seven documented sightings of right whales were made from 1990 to 2000 (Waite et al. 2003). Because of the small population size and the fact that North Pacific right whales spend the summer feeding in high latitudes, the likelihood that the proposed survey would encounter a North Pacific right whale is discountable. Along the U.S. west coast, no at-sea sightings of dwarf sperm whales have ever been reported despite numerous vessel surveys of this region (Barlow 1995; Barlow and Gerrodette 1996; Barlow and Forney 2007; Forney 2007; Barlow 2010, Barlow 2016). Therefore, based on the best available information, we believe the likelihood of the survey encountering a dwarf sperm whale is discountable. SIO requested authorization for the incidental take of dwarf sperm whales (the request was for a combined two takes of pygmy and/or dwarf sperm whales). However as we have determined the likelihood of take of dwarf sperm whales is discountable, we do not propose to authorize take of dwarf sperm whales. Thus, the North Pacific right whale and dwarf sperm whale are not discussed further in this document.

We have reviewed SIO's species descriptions, including life history information, distribution, regional distribution, diving behavior, and acoustics and hearing, for accuracy and completeness. We refer the reader to Section 4 of SIO's IHA application, rather than reprinting the information here. Below, for the 27 species that are likely to be taken by the activities described, we offer a brief introduction to the species and relevant stock(s) as well as available information regarding population trends and threats, and describe any information regarding local occurrence.

Humpback Whale

Humpback whales are found worldwide in all ocean basins. In winter, most humpback whales occur in the subtropical and tropical waters of the Northern and Southern Hemispheres (Muto et al., 2015). These wintering grounds are used for mating, giving birth, and nursing new calves. Humpback whales migrate nearly 3,000 mi (4,830 km) from their winter breeding grounds to their summer foraging grounds in Alaska. The humpback whale is the most common species of large cetacean reported off the coasts of Oregon and Washington from May to November (Green et al. 1992; Calambokidis et al. 2004).

There are five stocks of humpback whales, one of which occurs along the U.S. west coast: The California/Oregon/Washington Stock, which includes animals that appear to be part of two separate feeding groups, a California and Oregon feeding group and a northern Washington and southern British Columbia feeding group (Calambokidis et al. 2008, Barlow et al. 2011). Very few photographic matches between these feeding groups have been documented (Calambokidis et al. 2008). Humpbacks from both groups have been photographically matched to breeding areas off Central America, mainland Mexico, and Baja California, but whales from the northern Washington and southern British Columbia feeding group also winter near the Hawaiian Islands and the Revillagigedo Islands off Mexico (Barlow et al. 2011).

Humpback whales were listed as endangered under the Endangered Species Conservation Act (ESCA) in June 1970. In 1973, the ESA replaced the ESCA, and humpbacks continued to be listed as endangered. NMFS recently evaluated the status of the species, and on September 8, 2016, NMFS divided the species into 14 distinct population segments (DPS), removed the current species-level listing, and in its place listed four DPSs as endangered and one DPS as threatened (81 FR 62259; September 8, 2016). The remaining nine DPSs were not listed. The Mexico DPS and the Central America DPS are the only DPSs that are expected to occur in the survey area. The Mexico DPS is listed as threatened and the Central America DPS is listed as endangered under the ESA (81 FR 62259; September 8, 2016). The California/Oregon/Washington stock is considered a depleted and strategic stock under the MMPA.

Blue Whale

The blue whale has a cosmopolitan distribution and tends to be pelagic, only coming nearshore to feed and possibly to breed (Jefferson et al. 2008). Blue whale migration is less well defined than for some other rorquals, and their movements tend to be more closely linked to areas of high primary productivity, and hence prey, to meet their high energetic demands (Branch et al. 2007). Generally, blue whales are seasonal migrants between high latitudes in the summer, where they feed, and low latitudes in the winter, where they mate and give birth (Lockyer and Brown 1981). Some individuals may stay in low or high latitudes throughout the year (Reilly and Thayer 1990; Watkins et al. 2000). North Pacific blue whales were once thought to belong to as many as five separate populations (Reeves et al. 1998), but acoustic evidence suggests only two populations, in the eastern and western North Pacific, respectively (Stafford et al. 2001, Stafford 2003, McDonald et al. 2006, Monnahan et al. 2014). Only the Eastern North Pacific stock of blue whale occurs in the proposed survey area.

Blue whale densities along the U.S. west coast including Oregon are believed to be highest in shelf waters, with lower densities in deeper offshore areas (Becker et al. 2012; Calambokidis et al. 2015). Based on the absolute dynamic topography of the region, blue whales could occur in relatively high densities off Oregon during July-December (Pardo et al. 2015).

Five blue whale sightings were reported in the proposed project area off Oregon/Washington during 1991-2008; one sighting occurred within the nearshore portion of the proposed Astoria Fan survey area, and four sightings occurred nearshore, east of the Southern Oregon survey area (Carretta et al. 2017). Hazen et al. (2016) examined blue whale tag data from 182 individuals along the western U.S. during 1993-2008; multiple tag data tracks were within the proposed project area, particularly between August and November. Blue whales are listed as endangered under the ESA, and the Eastern North Pacific stock of blue whales is considered a depleted and strategic stock under the MMPA.

Fin Whale

Fin whales are found throughout all oceans from tropical to polar latitudes. The species occurs most commonly offshore but can also be found in coastal areas (Aguilar 2009). Most populations migrate seasonally between temperate waters where mating and calving occur in winter, and polar waters where feeding occurs in summer (Aguilar 2009). However, recent evidence suggests that some animals may remain at high latitudes in winter or low latitudes in summer (Edwards et al. 2015).

The North Pacific population summers from the Chukchi Sea to California and winters from California southwards (Gambell 1985). Aggregations of fin whales are found year-round off southern and central California (Dohl et al. 1980, 1983; Forney et al. 1995; Barlow 1997) and in the summer off Oregon (Green et al. 1992; Edwards et al. 2015). Vocalizations from fin whales have also been detected year-round off northern California, Oregon, and Washington (Moore et al. 1998, 2006; Watkins et al. 2000a; Stafford et al. 2007, 2009). Fin whales are listed as endangered under the ESA, and the California/Oregon/Washington stock of fin whales is considered depleted and strategic under the MMPA.

Sei Whale

The sei whale occurs in all ocean basins (Horwood 2009) but appears to prefer mid-latitude temperate waters (Jefferson et al. 2008). It undertakes seasonal migrations to feed in subpolar latitudes during summer and returns to lower latitudes during winter to calve (Horwood 2009). The sei whale is pelagic and generally not found in coastal waters (Harwood and Wilson 2001). It occurs in deeper waters characteristic of the continental shelf edge region (Hain et al. 1985) and in other regions of steep bathymetric relief such as seamounts and canyons (Kenney and Winn 1987; Gregr and Trites 2001).

Sei whales are rare in the waters off California, Oregon, and Washington (Brueggeman et al. 1990; Green et al. 1992; Barlow 1994, 1997). Only nine confirmed sightings were reported for California, Oregon, and Washington during extensive surveys from 1991-2008, including two within or near the westernmost portion of the Southern Oregon survey area (Green et al. 1992, 1993; Hill and Barlow 1992; Carretta and Forney 1993; Mangels and Gerrodette 1994; Von Saunder and Barlow 1999; Barlow 2003; Forney 2007; Barlow 2010; Carretta et al. 2016a). Two sightings of four individuals were made from the Langseth seismic vessel off Washington/Oregon during June-July 2012 (RPS 2012), including within the proposed project area. Sei whales are listed as endangered under the ESA, and the Eastern North Pacific stock of sei whales is considered a depleted and strategic stock under the MMPA.

Minke Whale

The minke whale has a cosmopolitan distribution ranging from the tropics and subtropics to the ice edge in both hemispheres (Jefferson et al. 2008). The California/Oregon/Washington stock of minke whale is the only stock that occurs in the proposed survey area. Minke whale sightings have been made off Oregon and Washington in shelf and deeper waters (Green et al. 1992; Adams et al. 2014; Carretta et al. 2017). A single minke whale was observed off the outer Washington coast (~47° N.) during small boat surveys from August 2004 through September 2008, 14 km from shore with a bottom depth of 38 m (Oleson et al. 2009). One sighting was made near the Astoria Fan survey area at the 200-m isopleth off the mouth of the Columbia River in July 2012 (Adams et al. 2014). Minke whales strandings have been reported in all seasons in Washington; most strandings (52 percent) occurred in spring (Norman et al. 2004). The minke whale is not listed as threatened or endangered under the ESA, and the California/Oregon/Washington stock is not listed as depleted or strategic under the MMPA.

Gray Whale

Gray whales occur along the eastern and western margins of the North Pacific. During summer and fall, most whales in the Eastern North Pacific stock feed in the Chukchi, Beaufort and northwestern Bering Seas, with the exception of a relatively small number of whales (approximately 200) that summer and feed along the Pacific coast between Kodiak Island, Alaska and northern California (Carretta et al. 2017). Three primary wintering lagoons in Baja California, Mexico are utilized, and some females are known to make repeated returns to specific lagoons (Jones 1990).

According to predictive density distribution maps, low densities of gray whales could be encountered throughout the Astoria Fan and Southern Oregon survey areas (Menza et al. 2016). During aerial surveys over the shelf and slope off Oregon and Washington, gray whales were seen during the months of January, June-July, and September; one sighting was made within the Astoria Fan survey area in water >200 m during June 2011 (Adams et al. 2014). The proposed surveys would occur during the summer feeding season for gray whales in the Washington/Oregon region. Thus, gray whales could be encountered in the eastern portion of the proposed project area where the water is shallower. The Eastern North Pacific gray whale is not listed as threatened or endangered under the ESA nor is it classified as a depleted or strategic stock under the MMPA.

Sperm Whale

Sperm whales are widely distributed across the entire North Pacific and into the southern Bering Sea in summer, but the majority are thought to be south of 40° N. in winter (Rice 1974, 1989; Gosho et al. 1984; Miyashita et al. 1995). They are generally distributed over large areas that have high secondary productivity and steep underwater topography, in waters at least 1000 m deep (Jaquet and Whitehead 1996; Whitehead 2009). Sperm whales are seen off Washington and Oregon in every season except winter (Green et al. 1992). Estimates of sperm whale abundance in California, Oregon, and Washington waters out to 300 nautical miles ranged between 2,000 and 3,000 animals for the 1991-2008 time series (Moore and Barlow 2014). At least five sightings during these surveys were within or adjacent to the Southern Oregon survey area, and one sighting was within the Astoria Fan survey area (Carretta et al. 2017). Sperm whales are listed as endangered under the ESA, and the California/Oregon/Washington stock is considered depleted and strategic under the MMPA.

Pygmy Sperm Whale

Pygmy sperm whales are found in tropical and warm-temperate waters throughout the world (Ross and Leatherwood 1994) and prefer deeper waters with observations of this species in greater than 4,000 m depth (Baird et al., 2013). Along the U.S. west coast, sightings of this species, and of animals identified only as Kogia spp., have been rare. However, this probably reflects their pelagic distribution, small body size and cryptic behavior, rather than a measure of rarity. Barlow (2010) used data collected in 1991-2008 to estimate an abundance of 229 Kogia spp. off Oregon and Washington. However, no Kogia spp. were sighted during surveys off Oregon and Washington in 2014 (Barlow 2016). Pygmy sperm whales are not listed as endangered or threatened under the ESA, and the California/Oregon/Washington stock is not considered strategic or designated as depleted under the MMPA.

Killer Whale

Killer whales have been observed in all oceans and seas of the world (Leatherwood and Dahlheim 1978). Although reported from tropical and offshore waters (Heyning and Dahlheim 1988), killer whales prefer the colder waters of both hemispheres, with greatest abundances found within 800 km of major continents (Mitchell 1975). Along the west coast of North America, killer whales occur along the entire Alaskan coast, in British Columbia and Washington inland waterways, and along the outer coasts of Washington, Oregon and California (Carretta et al. 2017). Based on aspects of morphology, ecology, genetics and behavior killer whale stocks off the U.S. west coast are classified as either resident, transient or offshore (Ford and Fisher 1982; Baird and Stacey 1988; Baird et al. 1992, Hoelzel et al. 1998). The offshore stocks apparently do not mix with the transient and resident killer whale stocks found in these regions (Ford et al. 1994, Black et al. 1997).

Eight killer whale stocks are recognized within the Pacific U.S. Exclusive Economic Zone. Of these, two stocks occur in the proposed project area: the West Coast Transient stock which occurs from Alaska through California, and the Eastern North Pacific Offshore stock which occurs from Southeast Alaska through California. Killer whales are not listed as endangered or threatened under the ESA (with the exception of the endangered Southern Resident DPS which does not occur in the survey area), and the West Coast Transient stock and Eastern North Pacific Offshore stock are not designated as depleted or strategic under the MMPA.

False Killer Whale

False killer whales are found worldwide in tropical and warm-temperate waters (Stacey et al. 1994). In the North Pacific, this species occurs throughout the waters of southern Japan, Hawaii, and the eastern tropical Pacific. The species generally inhabits deep, offshore waters, but sometimes is found over the continental shelf and occasionally moves into very shallow water (Jefferson et al. 2008; Baird 2009). False killer whales are typically only observed off the U.S. west coast during warm-water periods. Several sightings were made off California during 2014-2016 when waters were unusually warm (pers. comm. K. Forney, NMFS Southwest Fisheries Science Center, to J. Carduner, NMFS, July 27, 2017). False killer whales observed in the survey area would be expected to originate from the eastern North Pacific population that is primarily found south of U.S. waters (pers. comm. K. Forney, NMFS Southwest Fisheries Science Center, to J. Carduner, NMFS, July 27, 2017). NMFS does not have a defined stock for false killer whales off the U.S. west coast as they are considered uncommon visitors to the area; any false killer whales observed off the U.S. west coast would likely be part of the broader eastern North Pacific population. Of the stocks defined by NMFS, the Hawaii Pelagic stock is the most likely to include individuals in the eastern North Pacific population. False killer whales are not listed as endangered or threatened under the ESA (with the exception of the endangered Main Hawaiian Islands insular DPS which does not occur in the survey area), and the Hawaii pelagic stock is not designated as depleted or strategic under the MMPA.

Short-Finned Pilot Whale

Short-finned pilot whales are found in all oceans, primarily in tropical and warm-temperate waters (Carretta et al., 2016). The species prefers deeper waters, ranging from 324 m to 4,400 m, with most sightings between 500 m and 3,000 m (Baird 2016). The California/Oregon/Washington Stock of short-finned pilot whales are largely confined to the California Current and eastern tropical Pacific. After a strong El Niño event in 1982-83, short-finned pilot whales virtually disappeared from this region, and despite increased survey effort along the entire U.S. west coast, sightings and fishery takes are rare and have primarily occurred during warm-water years (Julian and Beeson 1998, Carretta et al. 2004, Barlow 2016). No short-finned pilot whales were seen during surveys off Oregon and Washington in 1989-1990, 1992, 1996, and 2001 (Barlow 2003). A few sightings were made off California during surveys in 1991-2008 (Barlow 2010). Carrettaet al. (2017) reported two sightings off Oregon during 1991-2008, both near the southern portion of the Astoria Fan survey area. Short-finned pilot whales are not listed as endangered or threatened under the ESA, and the California/Oregon/Washington stock is not considered a depleted or strategic stock under the MMPA.

Harbor Porpoise

In the eastern North Pacific Ocean, harbor porpoise are found in coastal and inland waters from Point Barrow, along the Alaskan coast, and down the west coast of North America to Point Conception, California (Gaskin 1984). Harbor porpoise are known to occur year-round in the inland transboundary waters of Washington and British Columbia, Canada (Osborne et al. 1988) and along the Oregon/Washington coast (Barlow 1988, Barlow et al. 1988, Green et al. 1992). Based on recent genetic evidence (Chivers et al. 2002, 2007) there are three separate stocks of North Pacific harbor porpoise that occur in Oregon/Washington waters: a Northern California/Southern Oregon stock (Point Arena, CA, to Lincoln City, OR), a Northern Oregon/Washington Coast stock (Lincoln City, OR, to Cape Flattery, WA), and the Washington Inland Waters stock (in waters east of Cape Flattery). Only the Northern California/Southern Oregon stock and Northern Oregon/Washington Coast stock occur in the proposed survey area.

Harbor porpoises inhabit coastal Oregon and Washington waters year-round, although there appear to be distinct seasonal changes in abundance there (Barlow 1988; Green et al. 1992). Green et al. (1992) reported that encounter rates were high during fall and winter, intermediate during spring, and low during summer. Encounter rates were highest along the Oregon/Washington coast in the area from Cape Blanco (~43° N.), east of the proposed Southern Oregon survey area, to California, from fall through spring. During summer, the reported encounter rates decreased notably from inner shelf to offshore waters. Nearly 100 sightings were reported within or east of the proposed project area during aerial surveys in 2007-2012 (Forney et al. 2014). Two sightings of nine individuals were made from the Langseth seismic vessel off the southern coast of Washington during July 2012 (RPS 2012); all sightings occurred nearshore and to the east of the Astoria Fan survey area. The harbor porpoise is not listed as endangered or threatened under the ESA and the Northern California/Southern Oregon stock and Northern Oregon/Washington Coast stock are not considered depleted or strategic stocks under the MMPA.

Dall's Porpoise

The Dall's porpoise is distributed throughout temperate to subantarctic waters of the North Pacific and adjacent seas (Jefferson et al. 2015). Off the U.S. west coast, they are generally found along shelf, slope and offshore waters (Morejohn 1979). Dall's porpoise is likely the most abundant small cetacean in the North Pacific Ocean, and its abundance changes seasonally, likely in relation to water temperature (Becker 2007). Becker et al. (2014) projected high densities off southern Oregon throughout the year, with moderate densities to the north. According to predictive density distribution maps, the highest densities off southern Washington and Oregon occur along the 500 m isobath (Menza et al. 2016). Dall's porpoise was the most abundant species sighted off Oregon/Washington during 1996, 2001, 2005, and 2008 shipboard surveys up to ~550 km from shore (Barlow 2003, 2010) with numerous other sightings within and near the Astoria Fan and Southern Oregon survey areas during the summer and fall (Becker et al. 2014; Carretta et al. 2016a). Dall's porpoise is not listed as threatened or endangered under the ESA and the California/Oregon/Washington stock is not classified as a depleted or strategic stock under the MMPA.

Bottlenose Dolphin

Bottlenose dolphins are widely distributed throughout the world in tropical and warm-temperate waters (Perrin et al. 2009). Generally, there are two distinct bottlenose dolphin ecotypes: one mainly found in coastal waters and one mainly found in oceanic waters (Duffield et al. 1983; Hoelzel et al. 1998; Walker et al. 1999). As well as inhabiting different areas, these ecotypes differ in their diving abilities (Klatsky 2004) and prey types (Mead and Potter 1995). Bottlenose dolphins occur frequently off the coast of California, and sightings have been made as far north as 41° N., but few records exist offshore Oregon and Washington (Carretta et al. 2017). Adams et al. (2014) made one sighting in Washington, to the north of the Astoria Fan survey area, during September 2012. Bottlenose dolphins are not listed as endangered or threatened under the ESA, and the California/Oregon/Washington pelagic stock is not considered a depleted or strategic stock under the MMPA.

Striped Dolphin

Striped dolphins are found in tropical to warm-temperate waters throughout the world (Carretta et al., 2016). However, in the eastern North Pacific, its distribution extends as far north as Washington (Jefferson et al. 2015). Striped dolphins are a deep water species, preferring depths greater than 3,500 m (Baird 2016), but have been observed approaching shore where there is deep water close to the coast (Jefferson et al. 2008). The abundance of striped dolphins off the U.S. west coast appears to be variable among years and could be affected by oceanographic conditions (Carretta et al. 2016a).

Striped dolphins regularly occur off California (Becker et al. 2012), where they are seen 185-556 km from the coast (Carretta et al. 2017), though very few sightings have been made off Oregon (Barlow 2016), and no sightings have been reported for Washington. However, strandings have occurred along the coasts of Oregon and Washington (Carretta et al. 2017). During surveys off the U.S. west coast in 2014, striped dolphins were seen as far north as 44º N. Striped dolphins are not listed as endangered or threatened under the ESA, and the California/Oregon/Washington stock is not considered a depleted or strategic stock under the MMPA.

Short-Beaked Common Dolphin

The short-beaked common dolphin is found in tropical and warm temperate oceans around the world (Perrin 2009). Short-beaked common dolphins are the most abundant cetacean off California, and are widely distributed between the coast and at least 300 nautical miles from shore. It ranges as far south as 40° S. in the Pacific Ocean, is common in coastal waters 200-300 m deep, and is also associated with prominent underwater topography, such as sea mounts (Evans 1994).

Few sightings of short-beaked common dolphins have been made off Oregon, and no sightings exist for Washington waters (Carretta et al. 2017). During surveys in 1991-2008, one sighting was made within the Astoria Fan survey area, and several records exist southwest of the Southern Oregon survey area (Carretta et al. 2017). During surveys off the west coast in 2014, sightings were made as far north as 44° N. (Barlow 2014). Short-beaked common dolphins are not listed as endangered or threatened under the ESA, and the California/Oregon/Washington stock is not considered a depleted or strategic stock under the MMPA.

Pacific White-Sided Dolphin

Pacific white-sided dolphins are endemic to temperate waters of the North Pacific Ocean, and common both on the high seas and along the continental margins (Brownell et al. 1999). In the eastern North Pacific Ocean, including waters off Oregon, the Pacific white-sided dolphin is one of the most common cetacean species, occurring primarily in shelf and slope waters (Green et al. 1993; Barlow 2003, 2010). It is known to occur close to shore in certain regions, including seasonally off southern California (Brownell et al. 1999).

Based on year-round aerial surveys off Oregon/Washington, the Pacific white-sided dolphin was the most abundant cetacean species (Green et al. 1992, 1993). Adams et al. (2014) also reported numerous offshore sightings off Oregon during summer, fall, and winter surveys in 2011 and 2012, including in the Southern Oregon survey area during September. Pacific white-sided dolphins are not listed as endangered or threatened under the ESA, and the California/Oregon/Washington stock is not considered a depleted or strategic stock under the MMPA.

Northern Right Whale Dolphin

Northern right-whale dolphins are endemic to temperate waters of the North Pacific Ocean. Off the U.S. west coast, they have been seen primarily in shelf and slope waters, with seasonal movements into the Southern California Bight (Leatherwood and Walker 1979; Dohl et al. 1980; 1983). Becker et al. (2014) predicted relatively high densities off southern Oregon, and moderate densities off northern Oregon and Washington. Barlow (2003, 2010) also found that the northern right whale dolphin was one of the most abundant marine mammal species off Oregon/Washington during 1996, 2001, 2005, and 2008 shipboard surveys. Several sightings were within and near the Astoria Fan and Southern Oregon survey areas during the summer and fall during surveys off California, Oregon and Washington (Forney 2007; Barlow 2010; Becker et al. 2012; Carretta et al. 2017). Northern right-whale dolphins are not listed as endangered or threatened under the ESA, and the California/Oregon/Washington stock is not considered a depleted or strategic stock under the MMPA.

Risso's Dolphin

Risso's dolphins are found in tropical to warm-temperate waters (Carretta et al., 2016). The species occurs from coastal to deep water but is most often found in depths greater than 3,000 m with the highest sighting rate in depths greater than 4,500 m (Baird 2016). It primarily occurs between 60ºN and 60ºS where surface water temperatures are at least 10ºC (Kruse et al. 1999). The distribution and abundance of Risso's dolphin is highly variable from California to Washington, presumably in response to changing oceanographic conditions on both annual and seasonal time scales (Forney and Barlow 1998; Buchanan et al. 2001). The highest densities were predicted along the coasts of Washington, Oregon, and central and southern California (Becker et al. 2012). Off Oregon and Washington, Risso's dolphins are most abundant over continental slope and shelf waters during spring and summer, less so during fall, and rare during winter (Green et al. 1992, 1993). Risso's dolphins were sighted off Oregon, including near the Astoria Fan and Southern Oregon survey areas, in June and October 2011 (Adams et al. 2014). Risso's dolphins are not listed as endangered or threatened under the ESA, and the California/Oregon/Washington stock is not considered a depleted or strategic stock under the MMPA.

Cuvier's Beaked Whale

Cuvier's beaked whale is the most widespread of the beaked whales occurring in almost all temperate, subtropical, and tropical waters and even some sub-polar and polar waters (MacLeod et al. 2006). It is found in deep water over and near the continental slope (Jefferson et al. 2008). Cuvier's beaked whale abundance for waters off Oregon and Washington in 2014 was estimated at 432 (Barlow 2016). One Cuvier's beaked whale sighting was made west of the proposed Southern Oregon survey area during the 1991-2008 surveys (Carretta et al. 2017). One sighting of three individuals was recorded in June 2006 during surveys off Washington during August 2004 through September 2008, north of the Astoria Fan survey area (Oleson et al. 2009). Cuvier's beaked whales are not listed as endangered or threatened under the ESA, and the California/Oregon/Washington stock is not considered a depleted or strategic stock under the MMPA.

Baird's Beaked Whale

Baird's beaked whales are distributed throughout deep waters and along the continental slopes of the North Pacific Ocean (Balcomb 1989, Macleod et al. 2006). It is sometimes seen close to shore where deep water approaches the coast, but its primary habitat is over or near the continental slope and oceanic seamounts (Jefferson et al. 2015). Along the U.S. west coast, Baird's beaked whales have been sighted primarily along the continental slope (Green et al. 1992; Becker et al. 2012; Carretta et al. 2016a) from late spring to early fall (Green et al. 1992). During 1991-2008 surveys, several sightings were reported to the south and west of the Southern Oregon survey area, to the west of the Astoria Fan survey area, and within the eastern portion of the Astoria Fan survey area (Carretta et al. 2016a). Predicted density modeling showed higher densities in slope waters off northern Oregon, near the Astoria Fan survey area, compared with southern Oregon (Becker et al. 2012). Baird's beaked whales are not listed as endangered or threatened under the ESA, and the California/Oregon/Washington stock is not considered a depleted or strategic stock under the MMPA.

Mesoplodont Beaked Whales

Mesoplodont beaked whales are distributed throughout deep waters and along the continental slopes of the North Pacific Ocean. The six species known to occur in this region are: Blainville's beaked whale (M. densirostris), Perrin's beaked whale (M. perrini), Lesser beaked whale (M. peruvianus), Stejneger's beaked whale (M. stejnegeri), Gingko-toothed beaked whale (M. gingkodens), and Hubbs' beaked whale (M. carlhubbsi) (Mead 1989, Henshaw et al. 1997, Dalebout et al. 2002, MacLeod et al. 2006). Based on bycatch and stranding records in this region, it appears that Hubb's beaked whale is most commonly encountered (Carretta et al. 2008, Moore and Barlow 2013). Insufficient sighting records exist off the U.S. west coast to determine any possible spatial or seasonal patterns in the distribution of mesoplodont beaked whales. Until methods of distinguishing these six species at-sea are developed, the management unit must be defined to include all Mesoplodon stocks in this region. Although mesoplodont beaked whales have been sighted along the U.S. west coast on several line transect surveys utilizing both aerial and shipboard platforms, the rarity of sightings has historically precluded reliable population estimates. Mesoplodont beaked are not listed as endangered or threatened under the ESA, and the California, Oregon and Washington stock is not considered a depleted or strategic stock under the MMPA.

California Sea Lion

The primary range of the California sea lion includes the coastal areas and offshore islands of the eastern North Pacific Ocean from British Columbia, Canada, to central Mexico, including the Gulf of California (Jefferson et al. 2015). However, its distribution is expanding (Jefferson et al. 2015), and its secondary range extends into the Gulf of Alaska where it is occasionally recorded (Maniscalco et al. 2004) and southern Mexico (Gallo-Reynoso and Solórzano-Velasco 1991). California sea lion breeding areas are on islands located in southern California, in western Baja California (Mexico), and the Gulf of California. During the breeding season, most California sea lions inhabit southern California and Mexico. In California and Baja California, births occur on land from mid-May to late June.

California sea lions are coastal animals that often haul out on shore throughout the year. Off Oregon and Washington, peak numbers occur during the fall. During aerial surveys off the coasts of Oregon and Washington during 1989-1990, California sea lions were sighted at sea during the fall and winter, but no sightings were made during June-August (Bonnell et al. 1992). Numbers off Oregon decrease during winter, as animals travel further north (Mate 1975 in Bonnell et al. 1992). California sea lions are not listed as threatened or endangered under the ESA, and the U.S. stock is not considered a depleted or strategic stock under the MMPA.

Steller Sea Lion

Steller sea lions range along the North Pacific Rim from northern Japan to California (Loughlin et al. 1984), with centers of abundance and distribution in the Gulf of Alaska and Aleutian Islands. They typically inhabit waters from the coast to the outer continental shelf and slope throughout their range and are not considered migratory, although foraging animals can travel long distances (Loughlin et al. 2003; Raum-Suryan et al. 2002).

During surveys off the coasts of Oregon and Washington, Bonnell et al. (1992) noted that 89 percent of sea lions occurred over the shelf at a mean distance of 21 km from the coast and near or in waters <200 m deep; the farthest sighting occurred ~40 km from shore, and the deepest sighting location was 1,611 m deep. Sightings were made along the 200 m depth contour within and near the proposed Astoria Fan and Southern Oregon survey sites throughout the year (Bonnell et al. 1992). The Eastern DPS of Steller sea lions is not listed as endangered or threatened under the ESA and the Eastern U.S. stock is not considered a depleted or strategic stock under the MMPA.

Harbor Seal

Harbor seals inhabit coastal and estuarine waters off Baja California, north along the western coasts of the continental U.S., British Columbia, and Southeast Alaska, west through the Gulf of Alaska and Aleutian Islands, and in the Bering Sea north to Cape Newenham and the Pribilof Islands. They haul out on rocks, reefs, beaches, and drifting glacial ice and feed in marine, estuarine, and occasionally fresh waters. Harbor seals generally are non-migratory, with local movements associated with tides, weather, season, food availability, and reproduction (Scheffer and Slipp 1944; Fisher 1952; Bigg 1969, 1981).

Jeffries et al. (2000) documented several harbor seal rookeries and haulouts along the Washington coastline; it is the only pinniped species that breeds in Washington. During surveys off the Oregon and Washington coasts, 88 percent of at-sea harbor seals occurred over shelf waters <200 m deep, with a few sightings near the 2000 m contour, and only one sighting over deeper water (Bonnell et al. 1992). Most (68 percent) at-sea sightings were recorded in September and November (Bonnell et al. 1992). Harbor seals are not listed as endangered or threatened under the ESA and the Oregon/Washington coast stock is not considered a depleted or strategic stock under the MMPA.

Northern Elephant Seal

Northern elephant seals gather at breeding areas, located primarily on offshore islands of Baja California and California, from approximately December to March before dispersing for feeding. Males feed near the eastern Aleutian Islands and in the Gulf of Alaska, while females feed at sea south of 45° N. (Stewart and Huber, 1993; Le Boeuf et al., 1993). Although movement and genetic exchange continues between rookeries, most elephant seals return to their natal rookeries when they start breeding (Huber et al., 1991). The California breeding population is now demographically isolated from the Baja California population and is considered to be a separate stock. Only the California breeding population is expected to occur in the proposed survey area. Off Washington, most elephant seal sightings at sea were during June, July, and September; off Oregon, sightings were recorded from November through May (Bonnell et al. 1992). Several seals were seen off Oregon during summer, fall, and winter surveys in 2011 and 2012, including one near the Southern Oregon survey area during October 2011 (Adams et al. 2014). Northern elephant seals are not listed as threatened or endangered under the ESA and the California breeding population is not considered a depleted or strategic stock under the MMPA.

Northern Fur Seal

Northern fur seals occur from southern California north to the Bering Sea and west to the Okhotsk Sea and Honshu Island, Japan. Two stocks of northern fur seals are recognized in U.S. waters: an eastern Pacific stock and a California stock (formerly referred to as the San Miguel Island stock). Only the California stock is expected to occur in the proposed survey area. Due to differing requirements during the annual reproductive season, adult males and females typically occur ashore at different, though overlapping, times. Adult males occur ashore and defend reproductive territories during a 3-month period from June through August while adult females are found ashore for as long as 6 months (June-November). The northern fur seals spends ~90 percent of its time at sea, typically in areas of upwelling along the continental slopes and over seamounts (Gentry 1981). The remainder of its life is spent on or near rookery islands or haulouts.

Bonnell et al. (1992) noted the presence of northern fur seals year-round off Oregon/Washington, with the greatest numbers (87 percent) occurring in January-May. Northern fur seals were seen as far out from the coast as 185 km, and numbers increased with distance from land; they were 5-6 times more abundant in offshore waters than over the shelf or slope (Bonnell et al.1992). The highest densities were seen in the Columbia River plume (~46° N.) and in deep offshore waters (>2000 m) off central and southern Oregon (Bonnell et al. 1992). The waters off Washington are a known foraging area for adult females, and concentrations of fur seals were also reported to occur near Cape Blanco, Oregon, at ~42.8° N. (Pelland et al. 2014). Northern fur seals are not listed as threatened or endangered under the ESA listed and the California stock is not considered a depleted or strategic stock under the MMPA.

Potential Effects of Specified Activities on Marine Mammals and Their Habitat

This section includes a summary and discussion of the ways that components of the specified activity may impact marine mammals and their habitat. The “Estimated Take by Incidental Harassment” section later in this document includes a quantitative analysis of the number of individuals that are expected to be taken by this activity. The “Negligible Impact Analysis and Determination” section considers the content of this section, the “Estimated Take by Incidental Harassment” section, and the “Proposed Mitigation” section, to draw conclusions regarding the likely impacts of these activities on the reproductive success or survivorship of individuals and how those impacts on individuals are likely to impact marine mammal species or stocks.

Description of Active Acoustic Sound Sources

This section contains a brief technical background on sound, the characteristics of certain sound types, and on metrics used in this proposal inasmuch as the information is relevant to the specified activity and to a discussion of the potential effects of the specified activity on marine mammals found later in this document.

Sound travels in waves, the basic components of which are frequency, wavelength, velocity, and amplitude. Frequency is the number of pressure waves that pass by a reference point per unit of time and is measured in hertz (Hz) or cycles per second. Wavelength is the distance between two peaks or corresponding points of a sound wave (length of one cycle). Higher frequency sounds have shorter wavelengths than lower frequency sounds, and typically attenuate (decrease) more rapidly, except in certain cases in shallower water. Amplitude is the height of the sound pressure wave or the “loudness” of a sound and is typically described using the relative unit of the decibel (dB). A sound pressure level (SPL) in dB is described as the ratio between a measured pressure and a reference pressure (for underwater sound, this is 1 microPascal (μPa)) and is a logarithmic unit that accounts for large variations in amplitude; therefore, a relatively small change in dB corresponds to large changes in sound pressure. The source level (SL) represents the SPL referenced at a distance of 1 m from the source (referenced to 1 μPa) while the received level is the SPL at the listener's position (referenced to 1 μPa).

Root mean square (rms) is the quadratic mean sound pressure over the duration of an impulse. Root mean square is calculated by squaring all of the sound amplitudes, averaging the squares, and then taking the square root of the average (Urick, 1983). Root mean square accounts for both positive and negative values; squaring the pressures makes all values positive so that they may be accounted for in the summation of pressure levels (Hastings and Popper, 2005). This measurement is often used in the context of discussing behavioral effects, in part because behavioral effects, which often result from auditory cues, may be better expressed through averaged units than by peak pressures.

Sound exposure level (SEL; represented as dB re 1 μPa²-s) represents the total energy contained within a pulse and considers both intensity and duration of exposure. Peak sound pressure (also referred to as zero-to-peak sound pressure or 0-p) is the maximum instantaneous sound pressure measurable in the water at a specified distance from the source and is represented in the same units as the rms sound pressure. Another common metric is peak-to-peak sound pressure (pk-pk), which is the algebraic difference between the peak positive and peak negative sound pressures. Peak-to-peak pressure is typically approximately 6 dB higher than peak pressure (Southall et al., 2007).

When underwater objects vibrate or activity occurs, sound-pressure waves are created. These waves alternately compress and decompress the water as the sound wave travels. Underwater sound waves radiate in a manner similar to ripples on the surface of a pond and may be either directed in a beam or beams or may radiate in all directions (omnidirectional sources), as is the case for pulses produced by the airgun arrays considered here. The compressions and decompressions associated with sound waves are detected as changes in pressure by aquatic life and man-made sound receptors such as hydrophones.

Even in the absence of sound from the specified activity, the underwater environment is typically loud due to ambient sound. Ambient sound is defined as environmental background sound levels lacking a single source or point (Richardson et al., 1995), and the sound level of a region is defined by the total acoustical energy being generated by known and unknown sources. These sources may include physical (e.g., wind and waves, earthquakes, ice, atmospheric sound), biological (e.g., sounds produced by marine mammals, fish, and invertebrates), and anthropogenic (e.g., vessels, dredging, construction) sound. A number of sources contribute to ambient sound, including the following (Richardson et al., 1995):

• Wind and waves: The complex interactions between wind and water surface, including processes such as breaking waves and wave-induced bubble oscillations and cavitation, are a main source of naturally occurring ambient sound for frequencies between 200 Hz and 50 kilohertz (kHz) (Mitson, 1995). In general, ambient sound levels tend to increase with increasing wind speed and wave height. Surf sound becomes important near shore, with measurements collected at a distance of 8.5 km from shore showing an increase of 10 dB in the 100 to 700 Hz band during heavy surf conditions.

• Precipitation: Sound from rain and hail impacting the water surface can become an important component of total sound at frequencies above 500 Hz, and possibly down to 100 Hz during quiet times.

• Biological: Marine mammals can contribute significantly to ambient sound levels, as can some fish and snapping shrimp. The frequency band for biological contributions is from approximately 12 Hz to over 100 kHz.

• Anthropogenic: Sources of ambient sound related to human activity include transportation (surface vessels), dredging and construction, oil and gas drilling and production, seismic surveys, sonar, explosions, and ocean acoustic studies. Vessel noise typically dominates the total ambient sound for frequencies between 20 and 300 Hz. In general, the frequencies of anthropogenic sounds are below 1 kHz and, if higher frequency sound levels are created, they attenuate rapidly. Sound from identifiable anthropogenic sources other than the activity of interest (e.g., a passing vessel) is sometimes termed background sound, as opposed to ambient sound.

The sum of the various natural and anthropogenic sound sources at any given location and time—which comprise “ambient” or “background” sound—depends not only on the source levels (as determined by current weather conditions and levels of biological and human activity) but also on the ability of sound to propagate through the environment. In turn, sound propagation is dependent on the spatially and temporally varying properties of the water column and sea floor, and is frequency-dependent. As a result of the dependence on a large number of varying factors, ambient sound levels can be expected to vary widely over both coarse and fine spatial and temporal scales. Sound levels at a given frequency and location can vary by 10-20 dB from day to day (Richardson et al., 1995). The result is that, depending on the source type and its intensity, sound from a given activity may be a negligible addition to the local environment or could form a distinctive signal that may affect marine mammals. Details of source types are described in the following text.

Sounds are often considered to fall into one of two general types: Pulsed and non-pulsed (defined in the following). The distinction between these two sound types is important because they have differing potential to cause physical effects, particularly with regard to hearing (e.g., Ward, 1997 in Southall et al., 2007). Please see Southall et al. (2007) for an in-depth discussion of these concepts.

Pulsed sound sources (e.g., airguns, explosions, gunshots, sonic booms, impact pile driving) produce signals that are brief (typically considered to be less than one second), broadband, atonal transients (ANSI, 1986, 2005; Harris, 1998; NIOSH, 1998; ISO, 2003) and occur either as isolated events or repeated in some succession. Pulsed sounds are all characterized by a relatively rapid rise from ambient pressure to a maximal pressure value followed by a rapid decay period that may include a period of diminishing, oscillating maximal and minimal pressures, and generally have an increased capacity to induce physical injury as compared with sounds that lack these features.

Non-pulsed sounds can be tonal, narrowband, or broadband, brief or prolonged, and may be either continuous or non-continuous (ANSI, 1995; NIOSH, 1998). Some of these non-pulsed sounds can be transient signals of short duration but without the essential properties of pulses (e.g., rapid rise time). Examples of non-pulsed sounds include those produced by vessels, aircraft, machinery operations such as drilling or dredging, vibratory pile driving, and active sonar systems (such as those used by the U.S. Navy). The duration of such sounds, as received at a distance, can be greatly extended in a highly reverberant environment.

Airgun arrays produce pulsed signals with energy in a frequency range from about 10-2,000 Hz, with most energy radiated at frequencies below 200 Hz. The amplitude of the acoustic wave emitted from the source is equal in all directions (i.e., omnidirectional), but airgun arrays do possess some directionality due to different phase delays between guns in different directions. Airgun arrays are typically tuned to maximize functionality for data acquisition purposes, meaning that sound transmitted in horizontal directions and at higher frequencies is minimized to the extent possible.

As described above, a MBES and a SBP would also be operated from the Revelle continuously throughout the survey, but not during transits to and from the project area. Due to the lower source level of the SBP relative to the Revelle's airgun array, the sounds from the SBP are expected to be effectively subsumed by the sounds from the airgun array. Thus, any marine mammal that was exposed to sounds from the SBP would already have been exposed to sounds from the airgun array, which are expected to propagate further in the water. As such, the SBP is not expected to result in the take of any marine mammal that has not already been taken by the sounds from the airgun array, and therefore we do not consider noise from the SBP further in this analysis. Each ping emitted by the MBES consists of four successive fan-shaped transmissions, each ensonifying a sector that extends 1° fore-aft. Given the movement and speed of the vessel, the intermittent and narrow downward-directed nature of the sounds emitted by the MBES would result in no more than one or two brief ping exposures of any individual marine mammal, if any exposure were to occur. Thus, we conclude that the likelihood of marine mammal take resulting from MBES exposure is discountable and therefore we do not consider noise from the MBES further in this analysis

Acoustic Effects

Here, we first provide background information on marine mammal hearing before discussing the potential effects of the use of active acoustic sources on marine mammals.

Marine Mammal Hearing—Hearing is the most important sensory modality for marine mammals underwater, and exposure to anthropogenic sound can have deleterious effects. To appropriately assess the potential effects of exposure to sound, it is necessary to understand the frequency ranges marine mammals are able to hear. Current data indicate that not all marine mammal species have equal hearing capabilities (e.g., Richardson et al., 1995; Wartzok and Ketten, 1999; Au and Hastings, 2008). To reflect this, Southall et al. (2007) recommended that marine mammals be divided into functional hearing groups based on directly measured or estimated hearing ranges on the basis of available behavioral response data, audiograms derived using auditory evoked potential techniques, anatomical modeling, and other data. Note that no direct measurements of hearing ability have been successfully completed for mysticetes (i.e., low-frequency cetaceans). Subsequently, NMFS (2016) described generalized hearing ranges for these marine mammal hearing groups. Generalized hearing ranges were chosen based on the approximately 65 dB threshold from the normalized composite audiograms, with the exception for lower limits for low-frequency cetaceans where the lower bound was deemed to be biologically implausible and the lower bound from Southall et al. (2007) retained. The functional groups and the associated frequencies are indicated below (note that these frequency ranges correspond to the range for the composite group, with the entire range not necessarily reflecting the capabilities of every species within that group):

• Low-frequency cetaceans (mysticetes): Generalized hearing is estimated to occur between approximately 7 Hz and 35 kHz, with best hearing estimated to be from 100 Hz to 8 kHz;

• Mid-frequency cetaceans (larger toothed whales, beaked whales, and most delphinids): Generalized hearing is estimated to occur between approximately 150 Hz and 160 kHz, with best hearing from 10 to less than 100 kHz;

• High-frequency cetaceans (porpoises, river dolphins, and members of the genera Kogia and Cephalorhynchus; including two members of the genus Lagenorhynchus, on the basis of recent echolocation data and genetic data): Generalized hearing is estimated to occur between approximately 275 Hz and 160 kHz.

• Pinnipeds in water; Phocidae (true seals): Generalized hearing is estimated to occur between approximately 50 Hz to 86 kHz, with best hearing between 1-50 kHz;

• Pinnipeds in water; Otariidae (eared seals): Generalized hearing is estimated to occur between 60 Hz and 39 kHz, with best hearing between 2-48 kHz.

The pinniped functional hearing group was modified from Southall et al. (2007) on the basis of data indicating that phocid species have consistently demonstrated an extended frequency range of hearing compared to otariids, especially in the higher frequency range (Hemilä et al., 2006; Kastelein et al., 2009; Reichmuth and Holt, 2013).

Table 3—Marine Functional Mammal Hearing Groups and Their Generalized Hearing Ranges
Hearing group | Generalized hearing range*
Low frequency (LF) cetaceans (baleen whales) | 7Hz to 35 kHz.
Mid-frequency (MF) cetaceans (dolphins, toothed whales, beaked whales, bottlenose whales) | 150 Hz to 160 kHz.
High-frequency (HF) cetaceans (true porpoises, Kogia, river dolphins, cephalorhynchid, Lagenorhynchus cruciger and L. australis) | 275 Hz to 160 kHz.
Phocid pinnipeds (PW) (underwater) (true seals) | 50 Hz to 86 kHz.
Otariid pinnipeds (OW) (underwater) (sea lions and fur seals) | 60 Hz to 39 kHz.
* Represents the generalized hearing range for the entire group as a composite (i.e., all species within the group), where individual species' hearing ranges are typically not as broad. Generalized hearing range chosen based on ~65 dB threshold from normalized composite audiogram, with the exception for lower limits for LF cetaceans (Southall et al., 2007) and PW pinniped (approximation).

For more detail concerning these groups and associated frequency ranges, please see NMFS (2016) for a review of available information. Twenty four marine mammal species (all cetaceans) have the reasonable potential to co-occur with the proposed survey activities. Please refer to Table 2. Of the cetacean species that may be present, 6 are classified as low-frequency cetaceans (i.e., all mysticete species), 16 are classified as mid-frequency cetaceans (i.e., all delphinid and ziphiid species and the sperm whale), and 2 are classified as high-frequency cetaceans (i.e., Kogia spp.).

Potential Effects of Underwater Sound—Please refer to the information given previously (“Description of Active Acoustic Sources”) regarding sound, characteristics of sound types, and metrics used in this document. Note that, in the following discussion, we refer in many cases to a recent review article concerning studies of noise-induced hearing loss conducted from 1996-2015 (i.e., Finneran, 2015). For study-specific citations, please see that work. Anthropogenic sounds cover a broad range of frequencies and sound levels and can have a range of highly variable impacts on marine life, from none or minor to potentially severe responses, depending on received levels, duration of exposure, behavioral context, and various other factors. The potential effects of underwater sound from active acoustic sources can potentially result in one or more of the following: Temporary or permanent hearing impairment, non-auditory physical or physiological effects, behavioral disturbance, stress, and masking (Richardson et al., 1995; Gordon et al., 2004; Nowacek et al., 2007; Southall et al., 2007; Götz et al., 2009). The degree of effect is intrinsically related to the signal characteristics, received level, distance from the source, and duration of the sound exposure. In general, sudden, high level sounds can cause hearing loss, as can longer exposures to lower level sounds. Temporary or permanent loss of hearing will occur almost exclusively for noise within an animal's hearing range. We first describe specific manifestations of acoustic effects before providing discussion specific to the use of airguns.

Richardson et al. (1995) described zones of increasing intensity of effect that might be expected to occur, in relation to distance from a source and assuming that the signal is within an animal's hearing range. First is the area within which the acoustic signal would be audible (potentially perceived) to the animal, but not strong enough to elicit any overt behavioral or physiological response. The next zone corresponds with the area where the signal is audible to the animal and of sufficient intensity to elicit behavioral or physiological responsiveness. Third is a zone within which, for signals of high intensity, the received level is sufficient to potentially cause discomfort or tissue damage to auditory or other systems. Overlaying these zones to a certain extent is the area within which masking (i.e., when a sound interferes with or masks the ability of an animal to detect a signal of interest that is above the absolute hearing threshold) may occur; the masking zone may be highly variable in size.

We describe the more severe effects certain non-auditory physical or physiological effects only briefly as we do not expect that use of airgun arrays are reasonably likely to result in such effects (see below for further discussion). Potential effects from impulsive sound sources can range in severity from effects such as behavioral disturbance or tactile perception to physical discomfort, slight injury of the internal organs and the auditory system, or mortality (Yelverton et al., 1973). Non-auditory physiological effects or injuries that theoretically might occur in marine mammals exposed to high level underwater sound or as a secondary effect of extreme behavioral reactions (e.g., change in dive profile as a result of an avoidance reaction) caused by exposure to sound include neurological effects, bubble formation, resonance effects, and other types of organ or tissue damage (Cox et al., 2006; Southall et al., 2007; Zimmer and Tyack, 2007; Tal et al., 2015). The survey activities considered here do not involve the use of devices such as explosives or mid-frequency tactical sonar that are associated with these types of effects.

1. Threshold Shift—Marine mammals exposed to high-intensity sound, or to lower-intensity sound for prolonged periods, can experience hearing threshold shift (TS), which is the loss of hearing sensitivity at certain frequency ranges (Finneran, 2015). TS can be permanent (PTS), in which case the loss of hearing sensitivity is not fully recoverable, or temporary (TTS), in which case the animal's hearing threshold would recover over time (Southall et al., 2007). Repeated sound exposure that leads to TTS could cause PTS. In severe cases of PTS, there can be total or partial deafness, while in most cases the animal has an impaired ability to hear sounds in specific frequency ranges (Kryter, 1985).

When PTS occurs, there is physical damage to the sound receptors in the ear (i.e., tissue damage), whereas TTS represents primarily tissue fatigue and is reversible (Southall et al., 2007). In addition, other investigators have suggested that TTS is within the normal bounds of physiological variability and tolerance and does not represent physical injury (e.g., Ward, 1997). Therefore, NMFS does not consider TTS to constitute auditory injury.

Relationships between TTS and PTS thresholds have not been studied in marine mammals, and there is no PTS data for cetaceans but such relationships are assumed to be similar to those in humans and other terrestrial mammals. PTS typically occurs at exposure levels at least several decibels above (a 40-dB threshold shift approximates PTS onset; e.g., Kryter et al., 1966; Miller, 1974) that inducing mild TTS (a 6-dB threshold shift approximates TTS onset; e.g., Southall et al. 2007). Based on data from terrestrial mammals, a precautionary assumption is that the PTS thresholds for impulse sounds (such as airgun pulses as received close to the source) are at least 6 dB higher than the TTS threshold on a peak-pressure basis and PTS cumulative sound exposure level thresholds are 15 to 20 dB higher than TTS cumulative sound exposure level thresholds (Southall et al., 2007). Given the higher level of sound or longer exposure duration necessary to cause PTS as compared with TTS, it is considerably less likely that PTS could occur.

For mid-frequency cetaceans in particular, potential protective mechanisms may help limit onset of TTS or prevent onset of PTS. Such mechanisms include dampening of hearing, auditory adaptation, or behavioral amelioration (e.g., Nachtigall and Supin, 2013; Miller et al., 2012; Finneran et al., 2015; Popov et al., 2016).

TTS is the mildest form of hearing impairment that can occur during exposure to sound (Kryter, 1985). While experiencing TTS, the hearing threshold rises, and a sound must be at a higher level in order to be heard. In terrestrial and marine mammals, TTS can last from minutes or hours to days (in cases of strong TTS). In many cases, hearing sensitivity recovers rapidly after exposure to the sound ends. Few data on sound levels and durations necessary to elicit mild TTS have been obtained for marine mammals.

Marine mammal hearing plays a critical role in communication with conspecifics, and interpretation of environmental cues for purposes such as predator avoidance and prey capture. Depending on the degree (elevation of threshold in dB), duration (i.e., recovery time), and frequency range of TTS, and the context in which it is experienced, TTS can have effects on marine mammals ranging from discountable to serious. For example, a marine mammal may be able to readily compensate for a brief, relatively small amount of TTS in a non-critical frequency range that occurs during a time where ambient noise is lower and there are not as many competing sounds present. Alternatively, a larger amount and longer duration of TTS sustained during time when communication is critical for successful mother/calf interactions could have more serious impacts.

Finneran et al. (2015) measured hearing thresholds in three captive bottlenose dolphins before and after exposure to ten pulses produced by a seismic airgun in order to study TTS induced after exposure to multiple pulses. Exposures began at relatively low levels and gradually increased over a period of several months, with the highest exposures at peak SPLs from 196 to 210 dB and cumulative (unweighted) SELs from 193-195 dB. No substantial TTS was observed. In addition, behavioral reactions were observed that indicated that animals can learn behaviors that effectively mitigate noise exposures (although exposure patterns must be learned, which is less likely in wild animals than for the captive animals considered in this study). The authors note that the failure to induce more significant auditory effects likely due to the intermittent nature of exposure, the relatively low peak pressure produced by the acoustic source, and the low-frequency energy in airgun pulses as compared with the frequency range of best sensitivity for dolphins and other mid-frequency cetaceans.

Currently, TTS data only exist for four species of cetaceans (bottlenose dolphin, beluga whale, harbor porpoise, and Yangtze finless porpoise) exposed to a limited number of sound sources (i.e., mostly tones and octave-band noise) in laboratory settings (Finneran, 2015). In general, harbor porpoises have a lower TTS onset than other measured cetacean species (Finneran, 2015). Additionally, the existing marine mammal TTS data come from a limited number of individuals within these species. There are no data available on noise-induced hearing loss for mysticetes.

Critical questions remain regarding the rate of TTS growth and recovery after exposure to intermittent noise and the effects of single and multiple pulses. Data at present are also insufficient to construct generalized models for recovery and determine the time necessary to treat subsequent exposures as independent events. More information is needed on the relationship between auditory evoked potential and behavioral measures of TTS for various stimuli. For summaries of data on TTS in marine mammals or for further discussion of TTS onset thresholds, please see Southall et al. (2007), Finneran and Jenkins (2012), Finneran (2015), and NMFS (2016).

2. Behavioral Effects—Behavioral disturbance may include a variety of effects, including subtle changes in behavior (e.g., minor or brief avoidance of an area or changes in vocalizations), more conspicuous changes in similar behavioral activities, and more sustained and/or potentially severe reactions, such as displacement from or abandonment of high-quality habitat. Behavioral responses to sound are highly variable and context-specific and any reactions depend on numerous intrinsic and extrinsic factors (e.g., species, state of maturity, experience, current activity, reproductive state, auditory sensitivity, time of day), as well as the interplay between factors (e.g., Richardson et al., 1995; Wartzok et al., 2003; Southall et al., 2007; Weilgart, 2007; Archer et al., 2010). Behavioral reactions can vary not only among individuals but also within an individual, depending on previous experience with a sound source, context, and numerous other factors (Ellison et al., 2012), and can vary depending on characteristics associated with the sound source (e.g., whether it is moving or stationary, number of sources, distance from the source). Please see Appendices B-C of Southall et al. (2007) for a review of studies involving marine mammal behavioral responses to sound.

Habituation can occur when an animal's response to a stimulus wanes with repeated exposure, usually in the absence of unpleasant associated events (Wartzok et al., 2003). Animals are most likely to habituate to sounds that are predictable and unvarying. It is important to note that habituation is appropriately considered as a “progressive reduction in response to stimuli that are perceived as neither aversive nor beneficial,” rather than as, more generally, moderation in response to human disturbance (Bejder et al., 2009). The opposite process is sensitization, when an unpleasant experience leads to subsequent responses, often in the form of avoidance, at a lower level of exposure. As noted, behavioral state may affect the type of response. For example, animals that are resting may show greater behavioral change in response to disturbing sound levels than animals that are highly motivated to remain in an area for feeding (Richardson et al., 1995; NRC, 2003; Wartzok et al., 2003). Controlled experiments with captive marine mammals have showed pronounced behavioral reactions, including avoidance of loud sound sources (Ridgway et al., 1997). Observed responses of wild marine mammals to loud pulsed sound sources (typically seismic airguns or acoustic harassment devices) have been varied but often consist of avoidance behavior or other behavioral changes suggesting discomfort (Morton and Symonds, 2002; see also Richardson et al., 1995; Nowacek et al., 2007). However, many delphinids approach acoustic source vessels with no apparent discomfort or obvious behavioral change (e.g., Barkaszi et al., 2012).

Available studies show wide variation in response to underwater sound; therefore, it is difficult to predict specifically how any given sound in a particular instance might affect marine mammals perceiving the signal. If a marine mammal does react briefly to an underwater sound by changing its behavior or moving a small distance, the impacts of the change are unlikely to be significant to the individual, let alone the stock or population. However, if a sound source displaces marine mammals from an important feeding or breeding area for a prolonged period, impacts on individuals and populations could be significant (e.g., Lusseau and Bejder, 2007; Weilgart, 2007; NRC, 2005). However, there are broad categories of potential response, which we describe in greater detail here, that include alteration of dive behavior, alteration of foraging behavior, effects to breathing, interference with or alteration of vocalization, avoidance, and flight.

Changes in dive behavior can vary widely, and may consist of increased or decreased dive times and surface intervals as well as changes in the rates of ascent and descent during a dive (e.g., Frankel and Clark 2000; Ng and Leung 2003; Nowacek et al. 2004; Goldbogen et al. 2013). Variations in dive behavior may reflect interruptions in biologically significant activities (e.g., foraging) or they may be of little biological significance. The impact of an alteration to dive behavior resulting from an acoustic exposure depends on what the animal is doing at the time of the exposure and the type and magnitude of the response.

Disruption of feeding behavior can be difficult to correlate with anthropogenic sound exposure, so it is usually inferred by observed displacement from known foraging areas, the appearance of secondary indicators (e.g., bubble nets or sediment plumes), or changes in dive behavior. As for other types of behavioral response, the frequency, duration, and temporal pattern of signal presentation, as well as differences in species sensitivity, are likely contributing factors to differences in response in any given circumstance (e.g., Croll et al. 2001; Nowacek et al. 2004; Madsen et al. 2006; Yazvenko et al. 2007). A determination of whether foraging disruptions incur fitness consequences would require information on or estimates of the energetic requirements of the affected individuals and the relationship between prey availability, foraging effort and success, and the life history stage of the animal.

Visual tracking, passive acoustic monitoring, and movement recording tags were used to quantify sperm whale behavior prior to, during, and following exposure to airgun arrays at received levels in the range 140-160 dB at distances of 7-13 km, following a phase-in of sound intensity and full array exposures at 1-13 km (Madsen et al., 2006; Miller et al., 2009). Sperm whales did not exhibit horizontal avoidance behavior at the surface. However, foraging behavior may have been affected. The sperm whales exhibited 19 percent less vocal (buzz) rate during full exposure relative to post exposure, and the whale that was approached most closely had an extended resting period and did not resume foraging until the airguns had ceased firing. The remaining whales continued to execute foraging dives throughout exposure; however, swimming movements during foraging dives were six percent lower during exposure than control periods (Miller et al., 2009). These data raise concerns that seismic surveys may impact foraging behavior in sperm whales, although more data are required to understand whether the differences were due to exposure or natural variation in sperm whale behavior (Miller et al., 2009).

Variations in respiration naturally vary with different behaviors and alterations to breathing rate as a function of acoustic exposure can be expected to co-occur with other behavioral reactions, such as a flight response or an alteration in diving. However, respiration rates in and of themselves may be representative of annoyance or an acute stress response. Various studies have shown that respiration rates may either be unaffected or could increase, depending on the species and signal characteristics, again highlighting the importance in understanding species differences in the tolerance of underwater noise when determining the potential for impacts resulting from anthropogenic sound exposure (e.g., Kastelein et al., 2001, 2005, 2006; Gailey et al., 2007; Gailey et al., 2016).

Marine mammals vocalize for different purposes and across multiple modes, such as whistling, echolocation click production, calling, and singing. Changes in vocalization behavior in response to anthropogenic noise can occur for any of these modes and may result from a need to compete with an increase in background noise or may reflect increased vigilance or a startle response. For example, in the presence of potentially masking signals, humpback whales and killer whales have been observed to increase the length of their songs (Miller et al., 2000; Fristrup et al., 2003; Foote et al., 2004), while right whales have been observed to shift the frequency content of their calls upward while reducing the rate of calling in areas of increased anthropogenic noise (Parks et al., 2007). In some cases, animals may cease sound production during production of aversive signals (Bowles et al., 1994).

Cerchio et al. (2014) used passive acoustic monitoring to document the presence of singing humpback whales off the coast of northern Angola and to opportunistically test for the effect of seismic survey activity on the number of singing whales. Two recording units were deployed between March and December 2008 in the offshore environment; numbers of singers were counted every hour. Generalized Additive Mixed Models were used to assess the effect of survey day (seasonality), hour (diel variation), moon phase, and received levels of noise (measured from a single pulse during each ten minute sampled period) on singer number. The number of singers significantly decreased with increasing received level of noise, suggesting that humpback whale breeding activity was disrupted to some extent by the survey activity.

Castellote et al. (2012) reported acoustic and behavioral changes by fin whales in response to shipping and airgun noise. Acoustic features of fin whale song notes recorded in the Mediterranean Sea and northeast Atlantic Ocean were compared for areas with different shipping noise levels and traffic intensities and during a seismic airgun survey. During the first 72 hours of the survey, a steady decrease in song received levels and bearings to singers indicated that whales moved away from the acoustic source and out of the study area. This displacement persisted for a time period well beyond the 10-day duration of seismic airgun activity, providing evidence that fin whales may avoid an area for an extended period in the presence of increased noise. The authors hypothesize that fin whale acoustic communication is modified to compensate for increased background noise and that a sensitization process may play a role in the observed temporary displacement.

Seismic pulses at average received levels of 131 dB re 1 µPa²-s caused blue whales to increase call production (Di Iorio and Clark, 2010). In contrast, McDonald et al. (1995) tracked a blue whale with seafloor seismometers and reported that it stopped vocalizing and changed its travel direction at a range of 10 km from the acoustic source vessel (estimated received level 143 dB pk-pk). Blackwell et al. (2013) found that bowhead whale call rates dropped significantly at onset of airgun use at sites with a median distance of 41-45 km from the survey. Blackwell et al. (2015) expanded this analysis to show that whales actually increased calling rates as soon as airgun signals were detectable before ultimately decreasing calling rates at higher received levels (i.e., 10-minute SELcum of ~127 dB). Overall, these results suggest that bowhead whales may adjust their vocal output in an effort to compensate for noise before ceasing vocalization effort and ultimately deflecting from the acoustic source (Blackwell et al., 2013, 2015). These studies demonstrate that even low levels of noise received far from the source can induce changes in vocalization and/or behavior for mysticetes.

Avoidance is the displacement of an individual from an area or migration path as a result of the presence of a sound or other stressors, and is one of the most obvious manifestations of disturbance in marine mammals (Richardson et al., 1995). For example, gray whales are known to change direction—deflecting from customary migratory paths—in order to avoid noise from seismic surveys (Malme et al., 1984). Humpback whales showed avoidance behavior in the presence of an active seismic array during observational studies and controlled exposure experiments in western Australia (McCauley et al., 2000). Avoidance may be short-term, with animals returning to the area once the noise has ceased (e.g., Bowles et al., 1994; Goold, 1996; Stone et al., 2000; Morton and Symonds, 2002; Gailey et al., 2007). Longer-term displacement is possible, however, which may lead to changes in abundance or distribution patterns of the affected species in the affected region if habituation to the presence of the sound does not occur (e.g., Bejder et al., 2006; Teilmann et al., 2006).

A flight response is a dramatic change in normal movement to a directed and rapid movement away from the perceived location of a sound source. The flight response differs from other avoidance responses in the intensity of the response (e.g., directed movement, rate of travel). Relatively little information on flight responses of marine mammals to anthropogenic signals exist, although observations of flight responses to the presence of predators have occurred (Connor and Heithaus, 1996). The result of a flight response could range from brief, temporary exertion and displacement from the area where the signal provokes flight to, in extreme cases, marine mammal strandings (Evans and England, 2001). However, it should be noted that response to a perceived predator does not necessarily invoke flight (Ford and Reeves, 2008), and whether individuals are solitary or in groups may influence the response.

Behavioral disturbance can also impact marine mammals in more subtle ways. Increased vigilance may result in costs related to diversion of focus and attention (i.e., when a response consists of increased vigilance, it may come at the cost of decreased attention to other critical behaviors such as foraging or resting). These effects have generally not been demonstrated for marine mammals, but studies involving fish and terrestrial animals have shown that increased vigilance may substantially reduce feeding rates (e.g., Beauchamp and Livoreil 1997; Fritz et al. 2002; Purser and Radford 2011). In addition, chronic disturbance can cause population declines through reduction of fitness (e.g., decline in body condition) and subsequent reduction in reproductive success, survival, or both (e.g., Harrington and Veitch 1992; Daan et al. 1996; Bradshaw et al. 1998). However, Ridgway et al. (2006) reported that increased vigilance in bottlenose dolphins exposed to sound over a five-day period did not cause any sleep deprivation or stress effects.

Many animals perform vital functions, such as feeding, resting, traveling, and socializing, on a diel cycle (24-hour cycle). Disruption of such functions resulting from reactions to stressors such as sound exposure are more likely to be significant if they last more than one diel cycle or recur on subsequent days (Southall et al., 2007). Consequently, a behavioral response lasting less than one day and not recurring on subsequent days is not considered particularly severe unless it could directly affect reproduction or survival (Southall et al., 2007). Note that there is a difference between multi-day substantive behavioral reactions and multi-day anthropogenic activities. For example, just because an activity lasts for multiple days does not necessarily mean that individual animals are either exposed to activity-related stressors for multiple days or, further, exposed in a manner resulting in sustained multi-day substantive behavioral responses.

Stone (2015) reported data from at-sea observations during 1,196 seismic surveys from 1994 to 2010. When large arrays of airguns (considered to be 500 in³ or more) were firing, lateral displacement, more localized avoidance, or other changes in behavior were evident for most odontocetes. However, significant responses to large arrays were found only for the minke whale and fin whale. Behavioral responses observed included changes in swimming or surfacing behavior, with indications that cetaceans remained near the water surface at these times. Cetaceans were recorded as feeding less often when large arrays were active. Behavioral observations of gray whales during a seismic survey monitored whale movements and respirations pre-, during and post-seismic survey (Gailey et al., 2016). Behavioral state and water depth were the best `natural' predictors of whale movements and respiration and, after considering natural variation, none of the response variables were significantly associated with seismic survey or vessel sounds.

3. Stress Responses—An animal's perception of a threat may be sufficient to trigger stress responses consisting of some combination of behavioral responses, autonomic nervous system responses, neuroendocrine responses, or immune responses (e.g., Seyle, 1950; Moberg 2000). In many cases, an animal's first and sometimes most economical (in terms of energetic costs) response is behavioral avoidance of the potential stressor. Autonomic nervous system responses to stress typically involve changes in heart rate, blood pressure, and gastrointestinal activity. These responses have a relatively short duration and may or may not have a significant long-term effect on an animal's fitness.

Neuroendocrine stress responses often involve the hypothalamus-pituitary-adrenal system. Virtually all neuroendocrine functions that are affected by stress—including immune competence, reproduction, metabolism, and behavior—are regulated by pituitary hormones. Stress-induced changes in the secretion of pituitary hormones have been implicated in failed reproduction, altered metabolism, reduced immune competence, and behavioral disturbance (e.g., Moberg 1987; Blecha 2000). Increases in the circulation of glucocorticoids are also equated with stress (Romano et al. 2004).

The primary distinction between stress (which is adaptive and does not normally place an animal at risk) and “distress” is the cost of the response. During a stress response, an animal uses glycogen stores that can be quickly replenished once the stress is alleviated. In such circumstances, the cost of the stress response would not pose serious fitness consequences. However, when an animal does not have sufficient energy reserves to satisfy the energetic costs of a stress response, energy resources must be diverted from other functions. This state of distress will last until the animal replenishes its energetic reserves sufficiently to restore normal function.

Relationships between these physiological mechanisms, animal behavior, and the costs of stress responses are well-studied through controlled experiments and for both laboratory and free-ranging animals (e.g., Holberton et al., 1996; Hood et al., 1998; Jessop et al., 2003; Krausman et al., 2004; Lankford et al., 2005). Stress responses due to exposure to anthropogenic sounds or other stressors and their effects on marine mammals have also been reviewed (Fair and Becker, 2000; Romano et al., 2002b) and, more rarely, studied in wild populations (e.g., Romano et al., 2002a). For example, Rolland et al. (2012) found that noise reduction from reduced ship traffic in the Bay of Fundy was associated with decreased stress in North Atlantic right whales. These and other studies lead to a reasonable expectation that some marine mammals will experience physiological stress responses upon exposure to acoustic stressors and that it is possible that some of these would be classified as “distress.” In addition, any animal experiencing TTS would likely also experience stress responses (NRC, 2003).

4. Auditory Masking—Sound can disrupt behavior through masking, or interfering with, an animal's ability to detect, recognize, or discriminate between acoustic signals of interest (e.g., those used for intraspecific communication and social interactions, prey detection, predator avoidance, navigation) (Richardson et al., 1995; Erbe et al., 2016). Masking occurs when the receipt of a sound is interfered with by another coincident sound at similar frequencies and at similar or higher intensity, and may occur whether the sound is natural (e.g., snapping shrimp, wind, waves, precipitation) or anthropogenic (e.g., shipping, sonar, seismic exploration) in origin. The ability of a noise source to mask biologically important sounds depends on the characteristics of both the noise source and the signal of interest (e.g., signal-to-noise ratio, temporal variability, direction), in relation to each other and to an animal's hearing abilities (e.g., sensitivity, frequency range, critical ratios, frequency discrimination, directional discrimination, age or TTS hearing loss), and existing ambient noise and propagation conditions.

Under certain circumstances, marine mammals experiencing significant masking could also be impaired from maximizing their performance fitness in survival and reproduction. Therefore, when the coincident (masking) sound is man-made, it may be considered harassment when disrupting or altering critical behaviors. It is important to distinguish TTS and PTS, which persist after the sound exposure, from masking, which occurs during the sound exposure. Because masking (without resulting in TS) is not associated with abnormal physiological function, it is not considered a physiological effect, but rather a potential behavioral effect.

The frequency range of the potentially masking sound is important in determining any potential behavioral impacts. For example, low-frequency signals may have less effect on high-frequency echolocation sounds produced by odontocetes but are more likely to affect detection of mysticete communication calls and other potentially important natural sounds such as those produced by surf and some prey species. The masking of communication signals by anthropogenic noise may be considered as a reduction in the communication space of animals (e.g., Clark et al., 2009) and may result in energetic or other costs as animals change their vocalization behavior (e.g., Miller et al. 2000; Foote et al. 2004; Parks et al. 2007; Di Iorio and Clark 2009; Holt et al. 2009). Masking can be reduced in situations where the signal and noise come from different directions (Richardson et al. 1995), through amplitude modulation of the signal, or through other compensatory behaviors (Houser and Moore 2014). Masking can be tested directly in captive species (e.g., Erbe 2008), but in wild populations it must be either modeled or inferred from evidence of masking compensation. There are few studies addressing real-world masking sounds likely to be experienced by marine mammals in the wild (e.g., Branstetter et al. 2013).

Masking affects both senders and receivers of acoustic signals and can potentially have long-term chronic effects on marine mammals at the population level as well as at the individual level. Low-frequency ambient sound levels have increased by as much as 20 dB (more than three times in terms of SPL) in the world's ocean from pre-industrial periods, with most of the increase from distant commercial shipping (Hildebrand 2009). All anthropogenic sound sources, but especially chronic and lower-frequency signals (e.g., from vessel traffic), contribute to elevated ambient sound levels, thus intensifying masking.

Ship Strike

Vessel collisions with marine mammals, or ship strikes, can result in death or serious injury of the animal. Wounds resulting from ship strike may include massive trauma, hemorrhaging, broken bones, or propeller lacerations (Knowlton and Kraus 2001). An animal at the surface may be struck directly by a vessel, a surfacing animal may hit the bottom of a vessel, or an animal just below the surface may be cut by a vessel's propeller. Superficial strikes may not kill or result in the death of the animal. These interactions are typically associated with large whales (e.g., fin whales), which are occasionally found draped across the bulbous bow of large commercial ships upon arrival in port. Although smaller cetaceans are more maneuverable in relation to large vessels than are large whales, they may also be susceptible to strike. The severity of injuries typically depends on the size and speed of the vessel, with the probability of death or serious injury increasing as vessel speed increases (Knowlton and Kraus 2001; Laist et al. 2001; Vanderlaan and Taggart 2007; Conn and Silber 2013). Impact forces increase with speed, as does the probability of a strike at a given distance (Silber et al. 2010; Gende et al. 2011).

Pace and Silber (2005) also found that the probability of death or serious injury increased rapidly with increasing vessel speed. Specifically, the predicted probability of serious injury or death increased from 45 to 75 percent as vessel speed increased from 10 to 14 kn, and exceeded 90 percent at 17 kn. Higher speeds during collisions result in greater force of impact, but higher speeds also appear to increase the chance of severe injuries or death through increased likelihood of collision by pulling whales toward the vessel (Clyne, 1999; Knowlton et al. 1995). In a separate study, Vanderlaan and Taggart (2007) analyzed the probability of lethal mortality of large whales at a given speed, showing that the greatest rate of change in the probability of a lethal injury to a large whale as a function of vessel speed occurs between 8.6 and 15 kt. The chances of a lethal injury decline from approximately 80 percent at 15 kt to approximately 20 percent at 8.6 kt. At speeds below 11.8 kt, the chances of lethal injury drop below 50 percent, while the probability asymptotically increases toward one hundred percent above 15 kt.

The Revelle travels at a speed of ~9.3 km/hour (5 kt) while towing seismic survey gear (LGL 2017). At this speed, both the possibility of striking a marine mammal and the possibility of a strike resulting in serious injury or mortality are discountable. At average transit speed, the probability of serious injury or mortality resulting from a strike is less than 50 percent. However, the likelihood of a strike actually happening is again discountable. Ship strikes, as analyzed in the studies cited above, generally involve commercial shipping, which is much more common in both space and time than is geophysical survey activity. Jensen and Silber (2004) summarized ship strikes of large whales worldwide from 1975-2003 and found that most collisions occurred in the open ocean and involved large vessels (e.g., commercial shipping). Commercial fishing vessels were responsible for three percent of recorded collisions, while no such incidents were reported for geophysical survey vessels during that time period.

It is possible for ship strikes to occur while traveling at slow speeds. For example, a hydrographic survey vessel traveling at low speed (5.5 kt) while conducting mapping surveys off the central California coast struck and killed a blue whale in 2009. The State of California determined that the whale had suddenly and unexpectedly surfaced beneath the hull, with the result that the propeller severed the whale's vertebrae, and that this was an unavoidable event. This strike represents the only such incident in approximately 540,000 hours of similar coastal mapping activity (p = 1.9 × 10−⁶; 95% CI = 0-5.5 × 10−⁶; NMFS, 2013b). In addition, a research vessel reported a fatal strike in 2011 of a dolphin in the Atlantic, demonstrating that it is possible for strikes involving smaller cetaceans to occur. In that case, the incident report indicated that an animal apparently was struck by the vessel's propeller as it was intentionally swimming near the vessel. While indicative of the type of unusual events that cannot be ruled out, neither of these instances represents a circumstance that would be considered reasonably foreseeable or that would be considered preventable.

Although the likelihood of the vessel striking a marine mammal is low, we require a robust ship strike avoidance protocol (see “Proposed Mitigation”), which we believe eliminates any foreseeable risk of ship strike. We anticipate that vessel collisions involving a seismic data acquisition vessel towing gear, while not impossible, represent unlikely, unpredictable events for which there are no preventive measures. Given the required mitigation measures, the relatively slow speed of the vessel towing gear, the presence of bridge crew watching for obstacles at all times (including marine mammals), the presence of marine mammal observers, and the short duration of the survey (5.5 days), we believe that the possibility of ship strike is discountable and, further, that were a strike of a large whale to occur, it would be unlikely to result in serious injury or mortality. No incidental take resulting from ship strike is anticipated, and this potential effect of the specified activity will not be discussed further in the following analysis.

Stranding—When a living or dead marine mammal swims or floats onto shore and becomes “beached” or incapable of returning to sea, the event is a “stranding” (Geraci et al. 1999; Perrin and Geraci 2002; Geraci and Lounsbury 2005; NMFS, 2007). The legal definition for a stranding under the MMPA is (A) a marine mammal is dead and is (i) on a beach or shore of the United States; or (ii) in waters under the jurisdiction of the United States (including any navigable waters); or (B) a marine mammal is alive and is (i) on a beach or shore of the United States and is unable to return to the water; (ii) on a beach or shore of the United States and, although able to return to the water, is in need of apparent medical attention; or (iii) in the waters under the jurisdiction of the United States (including any navigable waters), but is unable to return to its natural habitat under its own power or without assistance.

Marine mammals strand for a variety of reasons, such as infectious agents, biotoxicosis, starvation, fishery interaction, ship strike, unusual oceanographic or weather events, sound exposure, or combinations of these stressors sustained concurrently or in series. However, the cause or causes of most strandings are unknown (Geraci et al. 1976; Eaton, 1979; Odell et al. 1980; Best 1982). Numerous studies suggest that the physiology, behavior, habitat relationships, age, or condition of cetaceans may cause them to strand or might pre-dispose them to strand when exposed to another phenomenon. These suggestions are consistent with the conclusions of numerous other studies that have demonstrated that combinations of dissimilar stressors commonly combine to kill an animal or dramatically reduce its fitness, even though one exposure without the other does not produce the same result (Chroussos 2000; Creel 2005; DeVries et al. 2003; Fair and Becker 2000; Foley et al. 2001; Moberg, 2000; Relyea 2005; Romero 2004; Sih et al. 2004).

Use of military tactical sonar has been implicated in a majority of investigated stranding events, although one stranding event was associated with the use of seismic airguns. This event occurred in the Gulf of California, coincident with seismic reflection profiling by the R/V Maurice Ewing operated by Lamont-Doherty Earth Observatory (LDEO) of Columbia University and involved two Cuvier's beaked whales (Hildebrand 2004). The vessel had been firing an array of 20 airguns with a total volume of 8,500 in³ (Hildebrand 2004; Taylor et al. 2004). Most known stranding events have involved beaked whales, though a small number have involved deep-diving delphinids or sperm whales (e.g., Mazzariol et al. 2010; Southall et al.2013). In general, long duration (~1 second) and high-intensity sounds (>235 dB SPL) have been implicated in stranding events (Hildebrand 2004). With regard to beaked whales, mid-frequency sound is typically implicated (when causation can be determined) (Hildebrand 2004). Although seismic airguns create predominantly low-frequency energy, the signal does include a mid-frequency component. We have considered the potential for the proposed survey to result in marine mammal stranding and have concluded that, based on the best available information, stranding is not expected to occur.

Other Potential Impacts—Here, we briefly address the potential risks due to entanglement and contaminant spills. We are not aware of any records of marine mammal entanglement in towed arrays such as those considered here. The discharge of trash and debris is prohibited (33 CFR 151.51-77) unless it is passed through a machine that breaks up solids such that they can pass through a 25-mm mesh screen. All other trash and debris must be returned to shore for proper disposal with municipal and solid waste. Some personal items may be accidentally lost overboard. However, U.S. Coast Guard and Environmental Protection Act regulations require operators to become proactive in avoiding accidental loss of solid waste items by developing waste management plans, posting informational placards, manifesting trash sent to shore, and using special precautions such as covering outside trash bins to prevent accidental loss of solid waste. There are no meaningful entanglement risks posed by the described activity, and entanglement risks are not discussed further in this document.

Marine mammals could be affected by accidentally spilled diesel fuel from a vessel associated with proposed survey activities. Quantities of diesel fuel on the sea surface may affect marine mammals through various pathways: surface contact of the fuel with skin and other mucous membranes, inhalation of concentrated petroleum vapors, or ingestion of the fuel (direct ingestion or by the ingestion of oiled prey) (e.g., Geraci and St. Aubin, 1980, 1985, 1990). However, the likelihood of a fuel spill during any particular geophysical survey is considered to be remote, and the potential for impacts to marine mammals would depend greatly on the size and location of a spill and meteorological conditions at the time of the spill. Spilled fuel would rapidly spread to a layer of varying thickness and break up into narrow bands or windrows parallel to the wind direction. The rate at which the fuel spreads would be determined by the prevailing conditions such as temperature, water currents, tidal streams, and wind speeds. Lighter, volatile components of the fuel would evaporate to the atmosphere almost completely in a few days. Evaporation rate may increase as the fuel spreads because of the increased surface area of the slick. Rougher seas, high wind speeds, and high temperatures also tend to increase the rate of evaporation and the proportion of fuel lost by this process (Scholz et al., 1999). We do not anticipate potentially meaningful effects to marine mammals as a result of any contaminant spill resulting from the proposed survey activities, and contaminant spills are not discussed further in this document.

Anticipated Effects on Marine Mammal Habitat

Effects to Prey—Marine mammal prey varies by species, season, and location and, for some, is not well documented. Fish react to sounds which are especially strong and/or intermittent low-frequency sounds. Short duration, sharp sounds can cause overt or subtle changes in fish behavior and local distribution. Hastings and Popper (2005) identified several studies that suggest fish may relocate to avoid certain areas of sound energy. Additional studies have documented effects of pulsed sound on fish, although several are based on studies in support of construction projects (e.g., Scholik and Yan 2001, 2002; Popper and Hastings 2009). Sound pulses at received levels of 160 dB may cause subtle changes in fish behavior. SPLs of 180 dB may cause noticeable changes in behavior (Pearson et al. 1992; Skalski et al. 1992). SPLs of sufficient strength have been known to cause injury to fish and fish mortality. The most likely impact to fish from survey activities at the project area would be temporary avoidance of the area. The duration of fish avoidance of a given area after survey effort stops is unknown, but a rapid return to normal recruitment, distribution and behavior is anticipated.

Information on seismic airgun impacts to zooplankton, which represent an important prey type for mysticetes, is limited. However, McCauley et al. (2017) reported that experimental exposure to a pulse from a 150 in³ airgun decreased zooplankton abundance when compared with controls, as measured by sonar and net tows, and caused a two- to threefold increase in dead adult and larval zooplankton. Although no adult krill were present, the study found that all larval krill were killed after air gun passage. Impacts were observed out to the maximum 1.2 km range sampled.

In general, impacts to marine mammal prey are expected to be limited due to the relatively small temporal and spatial overlap between the proposed survey and any areas used by marine mammal prey species. The proposed survey would occur over a relatively short time period (5.5 days) and would occur over a very small area relative to the area available as marine mammal habitat in the northeast Pacific Ocean. We do not have any information to suggest the proposed survey area represents a significant feeding area for any marine mammal, and we believe any impacts to marine mammals due to adverse affects to their prey would be insignificant due to the limited spatial and temporal impact of the proposed survey. However, adverse impacts may occur to a few species of fish and to zooplankton.

Acoustic Habitat—Acoustic habitat is the soundscape—which encompasses all of the sound present in a particular location and time, as a whole—when considered from the perspective of the animals experiencing it. Animals produce sound for, or listen for sounds produced by, conspecifics (communication during feeding, mating, and other social activities), other animals (finding prey or avoiding predators), and the physical environment (finding suitable habitats, navigating). Together, sounds made by animals and the geophysical environment (e.g., produced by earthquakes, lightning, wind, rain, waves) make up the natural contributions to the total acoustics of a place. These acoustic conditions, termed acoustic habitat, are one attribute of an animal's total habitat.

Soundscapes are also defined by, and acoustic habitat influenced by, the total contribution of anthropogenic sound. This may include incidental emissions from sources such as vessel traffic, or may be intentionally introduced to the marine environment for data acquisition purposes (as in the use of airgun arrays). Anthropogenic noise varies widely in its frequency content, duration, and loudness and these characteristics greatly influence the potential habitat-mediated effects to marine mammals (please see also the previous discussion on masking under “Acoustic Effects”), which may range from local effects for brief periods of time to chronic effects over large areas and for long durations. Depending on the extent of effects to habitat, animals may alter their communications signals (thereby potentially expending additional energy) or miss acoustic cues (either conspecific or adventitious). For more detail on these concepts see, e.g., Barber et al., 2010; Pijanowski et al. 2011; Francis and Barber 2013; Lillis et al. 2014.

Problems arising from a failure to detect cues are more likely to occur when noise stimuli are chronic and overlap with biologically relevant cues used for communication, orientation, and predator/prey detection (Francis and Barber 2013). Although the signals emitted by seismic airgun arrays are generally low frequency, they would also likely be of short duration and transient in any given area due to the nature of these surveys. As described previously, exploratory surveys such as these cover a large area but would be transient rather than focused in a given location over time and therefore would not be considered chronic in any given location.

In summary, activities associated with the proposed action are not likely to have a permanent, adverse effect on any fish habitat or populations of fish species or on the quality of acoustic habitat. Thus, any impacts to marine mammal habitat are not expected to cause significant or long-term consequences for individual marine mammals or their populations.

Estimated Take

This section provides an estimate of the number of incidental takes proposed for authorization through this IHA, which will inform both NMFS' consideration of whether the number of takes is “small” and the negligible impact determination.

Harassment is the only type of take expected to result from these activities. Except with respect to certain activities not pertinent here, section 3(18) of the MMPA defines “harassment” as: Any act of pursuit, torment, or annoyance which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Authorized takes would primarily be by Level B harassment, as use of the seismic airguns have the potential to result in disruption of behavioral patterns for individual marine mammals. There is also some potential for auditory injury (Level A harassment) to result, primarily for high frequency cetaceans and phocid pinnipeds. Auditory injury is unlikely to occur for low- and mid-frequency species given very small modeled zones of injury for those species. The proposed mitigation and monitoring measures are expected to minimize the severity of such taking to the extent practicable. As described previously, no mortality is anticipated or proposed to be authorized for this activity. Below we describe how the take is estimated.

Described in the most basic way, we estimate take by considering: (1) Acoustic thresholds above which NMFS believes the best available science indicates marine mammals will be behaviorally harassed or incur some degree of permanent hearing impairment; (2) the area or volume of water that will be ensonified above these levels in a day; (3) the density or occurrence of marine mammals within these ensonified areas; and (4) and the number of days of activities. Below, we describe these components in more detail and present the exposure estimate and associated numbers of take proposed for authorization.

Acoustic Thresholds

Using the best available science, NMFS has developed acoustic thresholds that identify the received level of underwater sound above which exposed marine mammals would be reasonably expected to be behaviorally harassed (equated to Level B harassment) or to incur PTS of some degree (equated to Level A harassment).

Level B Harassment for non-explosive sources—Though significantly driven by received level, the onset of behavioral disturbance from anthropogenic noise exposure is also informed to varying degrees by other factors related to the source (e.g., frequency, predictability, duty cycle), the environment (e.g., bathymetry), and the receiving animals (hearing, motivation, experience, demography, behavioral context) and can be difficult to predict (Southall et al., 2007, Ellison et al. 2011). Based on the best available science and the practical need to use a threshold based on a factor that is both predictable and measurable for most activities, NMFS uses a generalized acoustic threshold based on received level to estimate the onset of behavioral harassment. NMFS predicts that marine mammals are likely to be behaviorally harassed in a manner we consider to fall under Level B harassment when exposed to underwater anthropogenic noise above received levels of 120 dB re 1 μPa (rms) for continuous (e.g. vibratory pile-driving, drilling) and above 160 dB re 1 μPa (rms) for non-explosive impulsive (e.g., seismic airguns) or intermittent (e.g., scientific sonar) sources. SIO's proposed activity includes the use of impulsive seismic sources. Therefore, the 160 dB re 1 μPa (rms) criteria is applicable for analysis of level B harassment.

Level A harassment for non-explosive sources—NMFS' Technical Guidance for Assessing the Effects of Anthropogenic Sound on Marine Mammal Hearing (NMFS 2016) identifies dual criteria to assess auditory injury (Level A harassment) to five different marine mammal groups (based on hearing sensitivity) as a result of exposure to noise from two different types of sources (impulsive or non-impulsive). The Technical Guidance identifies the received levels, or thresholds, above which individual marine mammals are predicted to experience changes in their hearing sensitivity for all underwater anthropogenic sound sources, reflects the best available science, and better predicts the potential for auditory injury than does NMFS' historical criteria.

These thresholds were developed by compiling and synthesizing the best available science and soliciting input multiple times from both the public and peer reviewers to inform the final product, and are provided in Table 4 below. The references, analysis, and methodology used in the development of the thresholds are described in NMFS 2016 Technical Guidance, which may be accessed at: www.nmfs.noaa.gov/pr/acoustics/guidelines.htm. As described above, SIO's proposed activity includes the use of intermittent and impulsive seismic sources.

Table 4—Thresholds Identifying the Onset of Permanent Threshold Shift in Marine Mammals
Hearing group | PTS onset thresholds: Impulsive* | PTS onset thresholds: Non-impulsive
Low-Frequency (LF) Cetaceans | Lpk,flat: 219 dB LE,LF,24h: 183 dB | LE,LF,24h: 199 dB.
Mid-Frequency (MF) Cetaceans | Lpk,flat: 230 dB LE,MF,24h: 185 dB | LE,MF,24h: 198 dB.
High-Frequency (HF) Cetaceans | Lpk,flat: 202 dB LE,HF,24h: 155 dB | LE,HF,24h: 173 dB.
Phocid Pinnipeds (PW) (Underwater) | Lpk,flat: 218 dB LE,PW,24h: 185 dB | LE,PW,24h: 201 dB.
Otariid Pinnipeds (OW) (Underwater) | Lpk,flat: 232 dB LE,OW,24h: 203 dB | LE,OW,24h: 219 dB.
Note: *Dual metric acoustic thresholds for impulsive sounds: Use whichever results in the largest isopleth for calculating PTS onset. If a non-impulsive sound has the potential of exceeding the peak sound pressure level thresholds associated with impulsive sounds, these thresholds should also be considered.
Note: Peak sound pressure (Lpk) has a reference value of 1 μPa, and cumulative sound exposure level (LE) has a reference value of 1μPa2s. In this Table, thresholds are abbreviated to reflect American National Standards Institute standards (ANSI 2013). However, peak sound pressure is defined by ANSI as incorporating frequency weighting, which is not the intent for this Technical Guidance. Hence, the subscript “flat” is being included to indicate peak sound pressure should be flat weighted or unweighted within the generalized hearing range. The subscript associated with cumulative sound exposure level thresholds indicates the designated marine mammal auditory weighting function (LF, MF, and HF cetaceans, and PW and OW pinnipeds) and that the recommended accumulation period is 24 hours. The cumulative sound exposure level thresholds could be exceeded in a multitude of ways (i.e., varying exposure levels and durations, duty cycle). When possible, it is valuable for action proponents to indicate the conditions under which these acoustic thresholds will be exceeded.

Ensonified Area

Here, we describe operational and environmental parameters of the activity that will feed into estimating the area ensonified above the acoustic thresholds.

The proposed survey would entail the use of a 2-airgun array with a total discharge of 90 in³ at a tow depth of 3 m. The distance to the predicted isopleth corresponding to the threshold for Level B harassment (160 dB re 1 μPa) was calculated based on results of modeling performed by LDEO. Received sound levels were predicted by LDEO's model (Diebold et al. 2010) as a function of distance from the airgun array. The LDEO modeling approach uses ray tracing for the direct wave traveling from the array to the receiver and its associated source ghost (reflection at the air-water interface in the vicinity of the array), in a constant-velocity half-space (infinite homogeneous ocean layer unbounded by a seafloor). In addition, propagation measurements of pulses from a 36-airgun array at a tow depth of 6 m have been reported in deep water (~1,600 m), intermediate water depth on the slope (~600-1100 m), and shallow water (~50 m) in the Gulf of Mexico in 2007-2008 (Tolstoy et al. 2009; Diebold et al. 2010). The estimated distances to the Level B harassment isopleth for the Revelle airgun array are shown in Table 5.

Table 5—Predicted Radial Distances From R/V Revelle 90 in³ Seismic Source to Isopleth Corresponding to Level B Harassment Threshold
Water depth | Predicted distance to threshold (160 dB re 1 μPa)
> 1000 m | 448 m
100-1000 m | 672 m

For modeling of radial distances to predicted isopleths corresponding to harassment thresholds in deep water (>1,000 m), LDEO used the deep-water radii for various Sound Exposure Levels obtained from LDEO model results down to a maximum water depth of 2,000 m (see Figure 2 in the IHA application). Radial distances to predicted isopleths corresponding to harassment thresholds in intermediate water depths (100-1,000 m) were derived by LDEO from the deep-water distances by applying a correction factor (multiplication) of 1.5, such that observed levels at very near offsets fall below the corrected mitigation curve (Fig. 16 in Appendix H of NSF-USGS 2011). LDEO's modeling methodology is described in greater detail in the IHA application (LGL 2017) and we refer to the reader to that document rather than repeating it here.

Predicted distances to Level A harassment isopleths, which vary based on marine mammal functional hearing groups (Table 3), were calculated based on modeling performed by LDEO using the Nucleus software program and the NMFS User Spreadsheet, described below. The updated acoustic thresholds for impulsive sounds (such as airguns) contained in the Technical Guidance (NMFS 2016) were presented as dual metric acoustic thresholds using both SELcum and peak sound pressure level metrics. As dual metrics, NMFS considers onset of PTS (Level A harassment) to have occurred when either one of the two metrics is exceeded (i.e., metric resulting in the largest isopleth). The SELcum metric considers both level and duration of exposure, as well as auditory weighting functions by marine mammal hearing group. In recognition of the fact that the requirement to calculate Level A harassment ensonified areas could be more technically challenging to predict due to the duration component and the use of weighting functions in the new SELcum thresholds, NMFS developed an optional User Spreadsheet that includes tools to help predict a simple isopleth that can be used in conjunction with marine mammal density or occurrence to facilitate the estimation of take numbers.

The values for SELcum and peak SPL for the Revelle airgun array were derived from calculating the modified farfield signature (Table 6). The farfield signature is often used as a theoretical representation of the source level. To compute the farfield signature, the source level is estimated at a large distance below the array (e.g., 9 km), and this level is back projected mathematically to a notional distance of 1 m from the array's geometrical center. However, when the source is an array of multiple airguns separated in space, the source level from the theoretical farfield signature is not necessarily the best measurement of the source level that is physically achieved at the source (Tolstoy et al. 2009). Near the source (at short ranges, distances <1 km), the pulses of sound pressure from each individual airgun in the source array do not stack constructively, as they do for the theoretical farfield signature. The pulses from the different airguns spread out in time such that the source levels observed or modeled are the result of the summation of pulses from a few airguns, not the full array (Tolstoy et al. 2009). At larger distances, away from the source array center, sound pressure of all the airguns in the array stack coherently, but not within one time sample, resulting in smaller source levels (a few dB) than the source level derived from the farfield signature. Because the farfield signature does not take into account the array effect near the source and is calculated as a point source, the modified farfield signature is a more appropriate measure of the sound source level for distributed sound sources, such as airgun arrays. Though the array effect is not expected to be as pronounced in the case of a 2-airgun array as it would be with a larger airgun array, the modified farfield method is considered more appropriate than use of the theoretical farfield signature.

Table 6—Modeled Source Levels Using Modified Farfield Method for R/V Revelle 90 in³ Airgun Array
Functional Hearing Group | Peak SPLflat | SELcum
Low frequency cetaceans (Lpk,flat: 219 dB; LE,LF,24h: 183 dB) | 232.805 dB | 206.0165 dB.
Mid frequency cetaceans (Lpk,flat: 230 dB; LE,MF,24h: 185 dB) | 229.89 dB | 205.9638 dB.
High frequency cetaceans (Lpk,flat: 202 dB; LE,HF,24h: 155 dB) | 232.867 dB | 206.384 dB.
Phocid Pinnipeds (Underwater) (Lpk,flat: 218 dB; LE,HF,24h: 185 dB) | 232.356 dB | 205.9638 dB.
Otariid Pinnipeds (Underwater) (Lpk,flat: 232 dB; LE,HF,24h: 203 dB) | 224.7897 dB | 206.806 dB.

In order to more realistically incorporate the Technical Guidance's weighting functions over the seismic array's full acoustic band, unweighted spectrum data for the Revelle's airgun array (modeled in 1 Hz bands) was used to make adjustments (dB) to the unweighted spectrum levels, by frequency, according to the weighting functions for each relevant marine mammal hearing group. These adjusted/weighted spectrum levels were then converted to pressures (μPa) in order to integrate them over the entire broadband spectrum, resulting in broadband weighted source levels by hearing group that could be directly incorporated within the User Spreadsheet (i.e., to override the Spreadsheet's more simple weighting factor adjustment). Using the User Spreadsheet's “safe distance” methodology for mobile sources (described by Sivle et al., 2014) with the hearing group-specific weighted source levels, and inputs assuming spherical spreading propagation, a source velocity of 2.57 meters/second, and shot interval of 7.78 seconds (LGL 2017), potential radial distances to auditory injury zones were then calculated for SELcum thresholds. Inputs to the User Spreadsheet are shown in Table 6. Outputs from the User Spreadsheet in the form of estimated distances to Level A harassment isopleths are shown in Table 7. As described above, the larger distance of the dual criteria (SELcum or Peak SPLflat) is used for estimating takes by Level A harassment. The weighting functions used are shown in Table 3 of the IHA application.

Table 7—Modeled Radial Distances (m) From R/V Revelle 90 in³ Airgun Array to Isopleths Corresponding to Level A Harassment Thresholds
Functional Hearing Group (Level A harassment thresholds) | Peak SPLflat | SELcum
Low frequency cetaceans (Lpk,flat: 219 dB; LE,LF,24h: 183 dB) | 4.9 | 7.9
Mid frequency cetaceans (Lpk,flat: 230 dB; LE,MF,24h: 185 dB) | 0.9 | 0
High frequency cetaceans (Lpk,flat: 202 dB; LE,HF,24h: 155 dB) | 34.9 | 0
Phocid Pinnipeds (Underwater) (Lpk,flat: 218 dB; LE,HF,24h: 185 dB) | 5.2 | 0.1
Otariid Pinnipeds (Underwater) (Lpk,flat: 232 dB; LE,HF,24h: 203 dB) | 0.4 | 0

Note that because of some of the assumptions included in the methods used, isopleths produced may be overestimates to some degree, which will ultimately result in some degree of overestimate of Level A take. However, these tools offer the best way to predict appropriate isopleths when more sophisticated 3D modeling methods are not available, and NMFS continues to develop ways to quantitatively refine these tools and will qualitatively address the output where appropriate. For mobile sources, such as the proposed seismic survey, the User Spreadsheet predicts the closest distance at which a stationary animal would not incur PTS if the sound source traveled by the animal in a straight line at a constant speed.

Marine Mammal Occurrence

In this section we provide the information about the presence, density, or group dynamics of marine mammals that will inform the take calculations.

The best available scientific information was considered in conducting marine mammal exposure estimates (the basis for estimating take). For most cetacean species, densities calculated by Barlow (2016) were used. These represent the most comprehensive and recent density data available for cetacean species in slope and offshore waters of Oregon and Washington and are based on data collected via NMFS Southwest Fisheries Science Center (SWFSC) ship-based surveys in 1991, 1993, 1996, 2001, 2005, 2008, and 2014. The surveys were conducted up to ~556 km from shore from June or August to November or December. The densities from NMFS SWFSC vessel-based surveys were corrected by the authors for both trackline detection probability and availability bias. Trackline detection probability bias is associated with diminishing sightability with increasing lateral distance from the trackline and is measured by f(0). Availability bias refers to the fact that there is less than 100 percent probability of sighting an animal that is present along the survey trackline, and it is measured by g(0). Abundance and density were not estimated for gray whales or harbor porpoises in the NMFS SWFSC surveys because their inshore habitats were inadequately covered in those studies. Gray whale density is derived from the abundance of gray whales that remain between Oregon and British Columbia in summer (updated based on abundance calculated by Calambokidis et al. 2014) and the area out to 43 km from shore, using the U.S. Navy (2010) method. Harbor porpoise densities are based on data from aerial line-transect surveys during 2007-2012 for the Northern Oregon/Washington Coast stock (Forney et al. 2014).

Systematic, offshore, at-sea survey data for pinnipeds are more limited than those for cetaceans. Densities for the Steller sea lion, California sea lion, northern elephant seal, and northern fur seal were calculated using the methods in U.S. Navy (2010) with updated abundance estimates from Carretta et al. (2016) and Muto et al. (2016), when appropriate. For the harbor seal, densities were calculated using the population estimate for the Oregon/Washington Coastal stock and the range for that stock from Carretta et al. (2016).

There is some uncertainty related to the estimated density data and the assumptions used in their calculations, as with all density data estimates. However, the approach used is based on the best available data.

Take Calculation and Estimation

Here we describe how the information provided above is brought together to produce a quantitative take estimate. In order to estimate the number of marine mammals predicted to be exposed to sound levels that would result in Level B harassment or Level A harassment, radial distances to predicted isopleths corresponding to the Level A harassment and Level B harassment thresholds are calculated, as described above. We then use those distances to calculate the area(s) around the airgun array predicted to be ensonified to sound levels that exceed the Level A and Level B harassment thresholds. The total ensonified area for the survey is then calculated, based on the areas predicted to be ensonified around the array and the trackline distance. In this case, 25 percent was added in the form of operational days, which is equivalent to adding 25 percent to the proposed line km to be surveyed, to account for potential additional seismic operations as described above. The marine mammals predicted to occur within the ensonified areas, based on estimated densities, are expected to be incidentally taken by the proposed survey.

To summarize, the estimated density of each marine mammal species within an area (animals/km²) is multiplied by the total ensonified areas (km²) that correspond to the Level A and Level B harassment thresholds for the species. The product (rounded) is the estimated number of instances of take for each species . The number of instances of take for each species is then multiplied by 1.25 to account for the 25 percent contingency, as described above. The result is an estimate of the number of instances that marine mammals are predicted to be exposed to airgun sounds above the Level B harassment threshold and the Level A harassment threshold over the duration of the proposed survey. The total area estimated to be ensonified to the Level B harassment threshold for the proposed survey is 204.2 km². Estimated takes for all marine mammal species are shown in Table 8.

Table 8—Numbers of Potential Incidental Take of Marine Mammals Proposed for Authorization
Species | Density (#/1,000 km²) | Estimated and proposed Level A takes | Estimated Level B takes | Proposed Level B takes | Total proposed Level A and Level B takes | Total proposed Level A and Level B takes as a percentage of population
Gray whale | 2.6 | 0 | 4 | 4 | 4 | < 0.1
Humpback whale | 2.1 | 0 | 3 | 3 | 3 | 0.2
Minke whale | 1.3 | 0 | 2 | 2 | 2 | 0.3
Sei whale ¹ | 0.4 | 0 | 1 | 2 | 2 | 0.4
Fin whale | 4.2 | 0 | 6 | 6 | 6 | < 0.1
Blue whale | 0.3 | 0 | 1 | 1 | 1 | < 0.1
Sperm whale ¹ | 0.9 | 0 | 2 | 6 | 6 | 0.3
Pygmy sperm whale | 1.6 | 0 | 2 | 2 | 2 | < 0.1
Killer whale ¹ | 0.9 | 0 | 2 | 8 | 8
West coast transient stock |  |  |  |  | 3.3
Eastern No. Pacific offshore stock |  |  |  |  |  | 3.3
False killer whale ¹ | 0 | 0 | 0 | 5 | 5 | 0.3
Short-finned pilot whale ¹ | 0.2 | 0 | 0 | 1 | 18 | 2.2
Harbor porpoise | 467.0 | 44 | 582 | 582 | 627
No.California/So. Oregon stock |  |  |  |  |  | 1.8
Northern Oregon/Washington coast stock |  |  |  |  |  | 2.9
Dall's porpoise | 54.4 | 5 | 68 | 68 | 73 | 0.3
Bottlenose dolphin ¹ | 0 | 0 | 0 | 0 | 13 | 6.8
Striped dolphin ¹ | 7.7 | 0 | 10 | 109 | 109 | 3.7
Risso's dolphin ¹ | 11.8 | 0 | 16 | 28 | 28 | 4.4
Short-beaked common dolphin ¹ | 69.2 | 0 | 89 | 286 | 286 | < 0.1
Pacific white sided dolphin ¹ | 40.7 | 0 | 52 | 62 | 62 | 2.3
Northern right whale dolphin ¹ | 46.4 | 0 | 60 | 63 | 63 | 2.5
Cuvier's beaked whale | 2.8 | 0 | 4 | 4 | 4 | < 0.1
Baird's beaked whale | 10.7 | 0 | 14 | 14 | 14 | 1.7
Mesoplodont beaked whales ² | 1.2 | 0 | 2 | 2 | 2 | 2.9
California sea lion | 283.3 | 0 | 362 | 362 | 362 | 1.2
Steller sea lion | 15.0 | 0 | 20 | 20 | 20 | < 0.1
Harbor seal | 292.3 | 4 | 367 | 367 | 371 | 1.5
Northern elephant seal | 83.1 | 1 | 105 | 105 | 106 | < 0.1
Northern fur seal | 83.4 | 0 | 107 | 107 | 107 | 0.8
¹ The proposed number of authorized takes (Level B harassment only) for these species has been increased from the estimated take to mean group size (as reported in Barlow (2016)).
² May be any of the following: Blainville's beaked whale, Perrin's beaked whale, Lesser beaked whale, Stejneger's beaked whale, Gingko-toothed beaked whale, or Hubb's beaked whale.

Species With Take Estimates Less Than Mean Group Size: Using the approach described above to estimate take, the take estimates for the sei whale, sperm whale, killer whale, short-finned pilot whale, false killer whale, bottlenose dolphin, short beaked common dolphin, striped dolphin, Pacific white sided dolphin, Risso's dolphin and Northern right whale dolphin were less than the average group sizes estimated for these species (Table 8). However, information on the social structures and life histories of these species indicates it is common for these species to be encountered in groups. The results of take calculations support the likelihood that SIO's survey is expected to encounter and to incidentally take these species, and we believe it is likely that these species may be encountered in groups, therefore it is reasonable to conservatively assume that one group of each of these species will be taken during the proposed survey. We therefore propose to authorize the take of the average (mean) group size for these species and stocks to account for the possibility that SIO's survey encounters a group of any of these species or stocks (Table 8).

No density data were available for the false killer whale or the bottlenose dolphin in the proposed survey area, as these species are not typically observed in the proposed survey area (Carretta et al. 2017). However, we believe it is possible that these species may be encountered by SIO during the proposed survey. Though false killer whales are a tropical species that is usually found in waters warmer than those typical of the proposed survey area, they have been observed off the U.S. west coast during warm-water periods. Several sightings were made off California during 2014-2016, when waters were unusually warm, and historically there are very rare records farther north (pers. comm. K. Forney, NMFS Southwest Fisheries Science Center, to J. Carduner, NMFS, July 27, 2017). Bottlenose dolphins have not been observed off the coast of Oregon and Washington (Carretta et al. 2017). However, they occur frequently off the coast of California, and they may range into Oregon and Washington waters during warm-water periods. (Carretta et al. 2017). Though no density data are available, we believe it is reasonable to conservatively assume that SIO's proposed survey may encounter and incidentally take false killer whales and bottlenose dolphins. We therefore propose to authorize the take of the average (mean) group size for both species (Table 8).

It should be noted that the proposed take numbers shown in Table 8 are believed to be conservative for several reasons. First, in the calculations of estimated take, 25 percent has been added in the form of operational survey days (equivalent to adding 25 percent to the proposed line km to be surveyed) to account for the possibility of additional seismic operations associated with airgun testing, and repeat coverage of any areas where initial data quality is sub-standard. Additionally, marine mammals would be expected to move away from a sound source that represents an aversive stimulus. However, the extent to which marine mammals would move away from the sound source is difficult to quantify and is therefore not accounted for in take estimates shown in Table 8.

For some marine mammal species, we propose to authorize a different number of incidental takes than the number of incidental takes requested by SIO (see Table 7 in the IHA application for requested take numbers). For instance, for several species, SIO increased the take request from the calculated take number to 1 percent of the estimated population size. However, we do not believe it is likely that 1 percent of the estimated population size of those species will be taken by SIO's proposed survey, therefore we propose to authorize take numbers as shows in Table 8, which we believe are based on the best available information.

To calculate distances to isopleths corresponding to Level A harassment thresholds using Peak SPLflat, LDEO first ran the modeling for a single shot and then applied a high pass filter for each hearing group based on the group's generalized hearing range. A high pass filter is a type of band-pass filter, which pass frequencies within a defined range without reducing amplitude and attenuate frequencies outside that defined range (Yost 2007). LDEO ran the modeling both with and without the application of the high pass filter and SIO included information on isopleths corresponding to Level A harassment thresholds both with and without the high pass filter in their IHA application. The Technical Guidance referred to auditory weighting functions based on a generic band-pass filter (NMFS 2016). However, it is important to note that the two datasets relied upon to define peak sound pressure level thresholds, either directly or as a surrogate means to derive thresholds for groups where no data are available (i.e., a beluga exposed to seismic water gun and harbor porpoise exposed to a single airgun) did not use a filter of any kind (i.e., thresholds provided were flat across the entire spectrum of the sound source). Therefore, for the purposes of modeling isopleths corresponding to Level A harassment thresholds using Peak SPLflat, NMFS believes that sound produced from the Revelle airgun array should be considered flat to result in no weighting/high pass filtering of any type at this time. Therefore, for the purposes of the take calculation, we rely on the distances to isopleths corresponding to Level A harassment thresholds using Peak SPLflat based on modeling performed by LDEO without the high pass filter applied. Thus, the proposed Level A take numbers shown in Table 8 for harbor porpoise, Dall's porpoise and harbor seal are higher than the Level A take numbers requested by SIO as they are the result of modeling of isopleths corresponding to Level A harassment thresholds using Peak SPLflat with no weighting/high pass filtering applied. Level A take numbers for other species are not affected.

Proposed Mitigation

In order to issue an IHA under Section 101(a)(5)(D) of the MMPA, NMFS must set forth the permissible methods of taking pursuant to such activity, “and other means of effecting the least practicable impact on such species or stock and its habitat, paying particular attention to rookeries, mating grounds, and areas of similar significance, and on the availability of such species or stock for taking” for certain subsistence uses (latter not applicable for this action). NMFS regulations require applicants for incidental take authorizations to include information about the availability and feasibility (economic and technological) of equipment, methods, and manner of conducting such activity or other means of effecting the least practicable adverse impact upon the affected species or stocks and their habitat (50 CFR 216.104(a)(11)).

In evaluating how mitigation may or may not be appropriate to ensure the least practicable adverse impact on species or stocks and their habitat, as well as subsistence uses where applicable, we carefully consider two primary factors:

(1) The manner in which, and the degree to which, the successful implementation of the measure(s) is expected to reduce impacts to marine mammals, marine mammal species or stocks, and their habitat. This considers the nature of the potential adverse impact being mitigated (likelihood, scope, range). It further considers the likelihood that the measure will be effective if implemented (probability of accomplishing the mitigating result if implemented as planned) the likelihood of effective implementation (probability implemented as planned), and

(2) the practicability of the measures for applicant implementation, which may consider such things as cost, impact on operations, and, in the case of a military readiness activity, personnel safety, practicality of implementation, and impact on the effectiveness of the military readiness activity.

SIO has reviewed mitigation measures employed during seismic research surveys authorized by NMFS under previous incidental harassment authorizations, as well as recommended best practices in Richardson et al. (1995), Pierson et al. (1998), Weir and Dolman (2007), Nowacek et al. (2013), Wright (2014), and Wright and Cosentino (2015), and has incorporated a suite of proposed mitigation measures into their project description based on the above sources.

To reduce the potential for disturbance from acoustic stimuli associated with the activities, SIO has proposed to implement the following mitigation measures for marine mammals:

(1) Vessel-based visual mitigation monitoring;

(2) Establishment of an exclusion zone and buffer zone;

(3) Shutdown procedures;

(4) Ramp-up procedures; and

(5) Ship strike avoidance measures.

In addition to these measures, NMFS proposes the following additional mitigation measure:

(1) Shutdown for killer whales observed at any distance.

Vessel-Based Visual Mitigation Monitoring

PSO observations would take place during all daytime airgun operations and nighttime start ups (if applicable) of the airguns. If airguns are operating throughout the night, observations would begin 30 minutes prior to sunrise. If airguns are operating after sunset, observations would continue until 30 minutes following sunset. Following a shutdown for any reason, observations would occur for at least 30 minutes prior to the planned start of airgun operations. Observations would also occur for 30 minutes after airgun operations cease for any reason. Observations would also be made during daytime periods when the Revelle is underway without seismic operations, such as during transits, to allow for comparison of sighting rates and behavior with and without airgun operations and between acquisition periods. Airgun operations would be suspended when marine mammals are observed within, or about to enter, the designated Exclusion Zone (as described below).

(i) During seismic operations, three visual PSOs would be based aboard the Revelle. PSOs would be appointed by SIO with NMFS approval. During the majority of seismic operations, two PSOs would monitor for marine mammals around the seismic vessel. A minimum of one PSO must be on duty at all times when the array is active. PSO(s) would be on duty in shifts of duration no longer than 4 hours. Other crew would also be instructed to assist in detecting marine mammals and in implementing mitigation requirements (if practical). Before the start of the seismic survey, the crew would be given additional instruction in detecting marine mammals and implementing mitigation requirements.

The Revelle is a suitable platform from which PSOs would watch for marine mammals. The Revelle has been used for that purpose during the routine California Cooperative Oceanic Fisheries Investigations surveys. Observing stations are located at the 02 level, with the observer eye level at ~10.4 m above the waterline. At a forward-centered position on the 02 deck, the view is ~240°; an aft-centered view includes the 100-m radius area around the GI airguns. The observer eye level on the bridge is ~15 m above sea level. Standard equipment for marine mammal observers would be 7 × 50 reticule binoculars and optical range finders. At night, night-vision equipment would be available. The observers would be in communication with ship's officers on the bridge and scientists in the vessel's operations laboratory, so they can advise promptly of the need for avoidance maneuvers or seismic source shutdown.

The PSOs must have no tasks other than to conduct observational effort, record observational data, and communicate with and instruct relevant vessel crew with regard to the presence of marine mammals and mitigation requirements. PSO resumes would be provided to NMFS for approval. At least one PSO must have a minimum of 90 days at-sea experience working as PSOs during a deep penetration seismic survey, with no more than eighteen months elapsed since the conclusion of the at-sea experience. One “experienced” visual PSO would be designated as the lead for the entire protected species observation team. The lead would serve as primary point of contact for the vessel operator.

The PSOs must have successfully completed relevant training, including completion of all required coursework and passing a written and/or oral examination developed for the training program, and must have successfully attained a bachelor's degree from an accredited college or university with a major in one of the natural sciences and a minimum of 30 semester hours or equivalent in the biological sciences and at least one undergraduate course in math or statistics. The educational requirements may be waived if the PSO has acquired the relevant skills through alternate training, including (1) secondary education and/or experience comparable to PSO duties; (2) previous work experience conducting academic, commercial, or government-sponsored marine mammal surveys; or (3) previous work experience as a PSO; the PSO should demonstrate good standing and consistently good performance of PSO duties.

Exclusion Zone (EZ) and Buffer Zone

An exclusion zone is a defined area within which occurrence of a marine mammal triggers mitigation action intended to reduce the potential for certain outcomes, e.g., auditory injury, disruption of critical behaviors. The PSOs would establish a minimum exclusion zone with a 100 m radius for the airgun array. The 100 m EZ would be based on radial distance from any element of the airgun array (rather than being based on the center of the array or around the vessel itself). With certain exceptions (described below), if a marine mammal appears within, enters, or appears on a course to enter this zone, the acoustic source would be shut down (see Shut Down Procedures below).

The 100 m radial distance of the standard EZ is precautionary in the sense that it would be expected to contain sound exceeding peak pressure injury criteria for all marine mammal hearing groups (Table 7) while also providing a consistent, reasonably observable zone within which PSOs would typically be able to conduct effective observational effort. In this case, the 100 m radial distance would also be expected to contain sound that would exceed the Level A harassment threshold based on sound exposure level (SELcum) criteria for all marine mammal hearing groups (Table 7). In the 2011 Programmatic Environmental Impact Statement for marine scientific research funded by NSF or the U.S. Geological Survey (NSF-USGS 2011), Alternative B (the Preferred Alternative) conservatively applied a 100 m EZ for all low-energy acoustic sources in water depths >100 m, with low-energy acoustic sources defined as any towed acoustic source with a single or a pair of clustered airguns with individual volumes of ≤250 in³. Thus the 100 m EZ proposed for this survey is consistent with the PEIS.

Our intent in prescribing a standard exclusion zone distance is to (1) encompass zones within which auditory injury could occur on the basis of instantaneous exposure; (2) provide additional protection from the potential for more severe behavioral reactions (e.g., panic, antipredator response) for marine mammals at relatively close range to the acoustic source; (3) provide consistency for PSOs, who need to monitor and implement the EZ; and (4) define a distance within which detection probabilities are reasonably high for most species under typical conditions.

PSOs would also establish and monitor a 200 m buffer zone. During use of the acoustic source, occurrence of marine mammals within the buffer zone (but outside the exclusion zone) would be communicated to the operator to prepare for potential shutdown of the acoustic source. The buffer zone is discussed further under Ramp Up Procedures below.

Shutdown Procedures

If a marine mammal is detected outside the EZ but is likely to enter the EZ, and if the vessel's speed and/or course cannot be changed to avoid having the animal enter the EZ, the airguns would be shut down before the animal is within the EZ. Likewise, if a marine mammal is already within the EZ when first detected, the airguns would be shut down immediately.

Following a shutdown, airgun activity would not resume until the marine mammal has cleared the 100 m EZ. The animal would be considered to have cleared the 100 m EZ if the following conditions have been met:

• It is visually observed to have departed the 100 m EZ, or

• it has not been seen within the 100 m EZ for 15 min in the case of small odontocetes, or

• it has not been seen within the 100 m EZ for 30 min in the case of mysticetes and large odontocetes, including sperm, pygmy sperm, and beaked whales.

This shutdown requirement would be in place for all marine mammals, with the exception of small delphinoids under certain circumstances. As defined here, the small delphinoid group is intended to encompass those members of the Family Delphinidae most likely to voluntarily approach the source vessel for purposes of interacting with the vessel and/or airgun array (e.g., bow riding). This exception to the shutdown requirement would apply solely to specific genera of small dolphins — Tursiops, Stenella, Delphinus, Lagenorhynchus and Lissodelphis — and would only apply if the animals were traveling, including approaching the vessel. If, for example, an animal or group of animals is stationary for some reason (e.g., feeding) and the source vessel approaches the animals, the shutdown requirement applies. An animal with sufficient incentive to remain in an area rather than avoid an otherwise aversive stimulus could either incur auditory injury or disruption of important behavior. If there is uncertainty regarding identification (i.e., whether the observed animal(s) belongs to the group described above) or whether the animals are traveling, the shutdown would be implemented.

We propose this small delphinoid exception because shutdown requirements for small delphinoids under all circumstances represent practicability concerns without likely commensurate benefits for the animals in question. Small delphinoids are generally the most commonly observed marine mammals in the specific geographic region and would typically be the only marine mammals likely to intentionally approach the vessel. As described below, auditory injury is extremely unlikely to occur for mid-frequency cetaceans (e.g., delphinids), as this group is relatively insensitive to sound produced at the predominant frequencies in an airgun pulse while also having a relatively high threshold for the onset of auditory injury (i.e., permanent threshold shift). Please see “Potential Effects of the Specified Activity on Marine Mammals” above for further discussion of sound metrics and thresholds and marine mammal hearing.

A large body of anecdotal evidence indicates that small delphinoids commonly approach vessels and/or towed arrays during active sound production for purposes of bow riding, with no apparent effect observed in those delphinoids (e.g., Barkaszi et al., 2012). The potential for increased shutdowns resulting from such a measure would require the Revelle to revisit the missed track line to reacquire data, resulting in an overall increase in the total sound energy input to the marine environment and an increase in the total duration over which the survey is active in a given area. Although other mid-frequency hearing specialists (e.g., large delphinoids) are no more likely to incur auditory injury than are small delphinoids, they are much less likely to approach vessels. Therefore, retaining a shutdown requirement for large delphinoids would not have similar impacts in terms of either practicability for the applicant or corollary increase in sound energy output and time on the water. We do anticipate some benefit for a shutdown requirement for large delphinoids in that it simplifies somewhat the total range of decision-making for PSOs and may preclude any potential for physiological effects other than to the auditory system as well as some more severe behavioral reactions for any such animals in close proximity to the source vessel.

At any distance, shutdown of the acoustic source would also be required upon observation of any of the following:

• A killer whale;

• a large whale (i.e., sperm whale or any baleen whale) with a calf; or

• an aggregation of large whales of any species (i.e., sperm whale or any baleen whale) that does not appear to be traveling (e.g., feeding, socializing, etc.).

These would be the only three potential situations that would require shutdown of the array for marine mammals observed beyond the 100 m EZ. Southern Resident DPS killer whales are not expected to occur in the area of the proposed survey as the easternmost track lines of the proposed survey (those that approach nearest to shore) are further west than the migratory range of the Southern Resident stock off Oregon and southern Washington (pers. comm., B. Hanson, NMFS Northwest Fishery Science Center to J. Carduner, NMFS OPR, April 12, 2017). As the Eastern North Pacific Southern Resident stock would be expected to occur closer to shore than the proposed survey area, the survey is not expected to encounter any individuals from this stock. However, as the known migratory range of the Southern Resident DPS occurs near the proposed survey area, and due to the precarious conservation status of the Southern Resident killer whale DPS, NMFS believes it is reasonable to implement measures that are conservative and also practicable in order to prevent the potential for a Southern Resident killer whale to be exposed to airgun sounds. Thus the requirement to shut down the array upon observation of a killer whale at any distance is designed to avoid any potential for harassment of any Southern Resident killer whales.

Ramp-Up Procedures

Ramp-up of an acoustic source is intended to provide a gradual increase in sound levels following a shutdown, enabling animals to move away from the source if the signal is sufficiently aversive prior to its reaching full intensity. Ramp-up would be required after the array is shut down for any reason. Ramp-up would begin with the activation of one 45 in³ airgun, with the second 45 in³ airgun activated after 5 minutes.

PSOs would be required to monitor during ramp-up. During ramp up, the PSOs would monitor the EZ, and if marine mammals were observed within or approaching the 100 m EZ, a shutdown would be implemented as though the full array were operational. If airguns have been shut down due to PSO detection of a marine mammal within or approaching the 100 m EZ, ramp-up would not be initiated until all marine mammals have cleared the EZ, during the day or night. Criteria for clearing the EZ would be as described above.

Thirty minutes of pre-clearance observation are required prior to ramp-up for any shutdown of longer than 30 minutes (i.e., if the array were shut down during transit from one line to another). This 30 minute pre-clearance period may occur during any vessel activity (i.e., transit). If a marine mammal were observed within or approaching the 100 m EZ during this pre-clearance period, ramp-up would not be initiated until all marine mammals cleared the EZ. Criteria for clearing the EZ would be as described above. If the airgun array has been shut down for reasons other than mitigation (e.g., mechanical difficulty) for a period of less than 30 minutes, it may be activated again without ramp-up if PSOs have maintained constant visual observation and no detections of any marine mammal have occurred within the EZ or buffer zone. Ramp-up would be planned to occur during periods of good visibility when possible. However, ramp-up would be allowed at night and during poor visibility if the 100 m EZ and 200 m buffer zone have been monitored by visual PSOs for 30 minutes prior to ramp-up.

The operator would be required to notify a designated PSO of the planned start of ramp-up as agreed-upon with the lead PSO; the notification time should not be less than 60 minutes prior to the planned ramp-up. A designated PSO must be notified again immediately prior to initiating ramp-up procedures and the operator must receive confirmation from the PSO to proceed. The operator must provide information to PSOs documenting that appropriate procedures were followed. Following deactivation of the array for reasons other than mitigation, the operator would be required to communicate the near-term operational plan to the lead PSO with justification for any planned nighttime ramp-up.

Speed or Course Alteration

If a marine mammal is detected outside the EZ, based on its position and the relative motion, is likely to enter the EZ, the vessel's speed and/or direct course could be changed. This would be done if operationally practicable while minimizing the effect on the planned science objectives. The activities and movements of the marine mammal (relative to the seismic vessel) would then be closely monitored to determine whether the animal is approaching the EZ. If the animal appears likely to enter the EZ, a shutdown of the seismic source would cocur. Typically, during seismic operations, the source vessel is unable to change speed or course and one or more alternative mitigation measures (as described above) would need to be implemented.

Based on our evaluation of the applicant's proposed measures, NMFS has preliminarily determined that the proposed mitigation measures provide the means effecting the least practicable impact on the affected species or stocks and their habitat, paying particular attention to rookeries, mating grounds, and areas of similar significance.

Proposed Monitoring and Reporting

In order to issue an IHA for an activity, Section 101(a)(5)(D) of the MMPA states that NMFS must set forth, “requirements pertaining to the monitoring and reporting of such taking.” The MMPA implementing regulations at 50 CFR 216.104 (a)(13) indicate that requests for authorizations must include the suggested means of accomplishing the necessary monitoring and reporting that will result in increased knowledge of the species and of the level of taking or impacts on populations of marine mammals that are expected to be present in the proposed action area. Effective reporting is critical both to compliance as well as ensuring that the most value is obtained from the required monitoring.

Monitoring and reporting requirements prescribed by NMFS should contribute to improved understanding of one or more of the following:

• Occurrence of marine mammal species or stocks in the area in which take is anticipated (e.g., presence, abundance, distribution, density).

• Nature, scope, or context of likely marine mammal exposure to potential stressors/impacts (individual or cumulative, acute or chronic), through better understanding of: (1) Action or environment (e.g., source characterization, propagation, ambient noise); (2) affected species (e.g., life history, dive patterns); (3) co-occurrence of marine mammal species with the action; or (4) biological or behavioral context of exposure (e.g., age, calving or feeding areas).

• Individual marine mammal responses (behavioral or physiological) to acoustic stressors (acute, chronic, or cumulative), other stressors, or cumulative impacts from multiple stressors.

• How anticipated responses to stressors impact either: (1) Long-term fitness and survival of individual marine mammals; or (2) populations, species, or stocks.

• Effects on marine mammal habitat (e.g., marine mammal prey species, acoustic habitat, or other important physical components of marine mammal habitat).

• Mitigation and monitoring effectiveness.

SIO submitted a marine mammal monitoring and reporting plan in section XIII of their IHA application. Monitoring that is designed specifically to facilitate mitigation measures, such as monitoring of the EZ to inform potential shutdowns of the airgun array, are described above and are not repeated here.

SIO's monitoring and reporting plan includes the following measures:

Vessel-Based Visual Monitoring

As described above, PSO observations would take place during daytime airgun operations and nighttime start ups (if applicable) of the airguns. During seismic operations, three visual PSOs would be based aboard the Revelle. PSOs would be appointed by SIO with NMFS approval. During the majority of seismic operations, one PSO would monitor for marine mammals around the seismic vessel. PSOs would be on duty in shifts of duration no longer than 4 hours. Other crew would also be instructed to assist in detecting marine mammals and in implementing mitigation requirements (if practical). During daytime, PSOs would scan the area around the vessel systematically with reticle binoculars (e.g., 7 × 50 Fujinon), Big-eye binoculars (25 × 150), and with the naked eye.

PSOs would record data to estimate the numbers of marine mammals exposed to various received sound levels and to document apparent disturbance reactions or lack thereof. Data would be used to estimate numbers of animals potentially `taken' by harassment (as defined in the MMPA). They would also provide information needed to order a shutdown of the airguns when a marine mammal is within or near the EZ. When a sighting is made, the following information about the sighting would be recorded:

1. Species, group size, age/size/sex categories (if determinable), behavior when first sighted and after initial sighting, heading (if consistent), bearing and distance from seismic vessel, sighting cue, apparent reaction to the airguns or vessel (e.g., none, avoidance, approach, paralleling, etc.), and behavioral pace.

2. Time, location, heading, speed, activity of the vessel, sea state, visibility, and sun glare.

All observations and shutdowns would be recorded in a standardized format. Data would be entered into an electronic database. The accuracy of the data entry would be verified by computerized data validity checks as the data are entered and by subsequent manual checking of the database. These procedures would allow initial summaries of data to be prepared during and shortly after the field program and would facilitate transfer of the data to statistical, graphical, and other programs for further processing and archiving. The time, location, heading, speed, activity of the vessel, sea state, visibility, and sun glare would also be recorded at the start and end of each observation watch, and during a watch whenever there is a change in one or more of the variables.

Results from the vessel-based observations would provide:

1. The basis for real-time mitigation (airgun shutdown).

2. Information needed to estimate the number of marine mammals potentially taken by harassment, which must be reported to NMFS.

3. Data on the occurrence, distribution, and activities of marine mammals in the area where the seismic study is conducted.

4. Information to compare the distance and distribution of marine mammals relative to the source vessel at times with and without seismic activity.

5. Data on the behavior and movement patterns of marine mammals seen at times with and without seismic activity.

Negligible Impact Analysis and Determination

NMFS has defined negligible impact as an impact resulting from the specified activity that cannot be reasonably expected to, and is not reasonably likely to, adversely affect the species or stock through effects on annual rates of recruitment or survival (50 CFR 216.103). A negligible impact finding is based on the lack of likely adverse effects on annual rates of recruitment or survival (i.e., population-level effects). An estimate of the number of takes alone is not enough information on which to base an impact determination. In addition to considering estimates of the number of marine mammals that might be “taken” through harassment, NMFS considers other factors, such as the likely nature of any responses (e.g., intensity, duration), the context of any responses (e.g., critical reproductive time or location, migration), as well as effects on habitat, and the likely effectiveness of the mitigation. We also assess the number, intensity, and context of estimated takes by evaluating this information relative to population status. Consistent with the 1989 preamble for NMFS' implementing regulations (54 FR 40338; September 29, 1989), the impacts from other past and ongoing anthropogenic activities are incorporated into this analysis via their impacts on the environmental baseline (e.g., as reflected in the regulatory status of the species, population size and growth rate where known, ongoing sources of human-caused mortality, or ambient noise levels).

To avoid repetition, our analysis applies to all the species listed in Table 2, given that NMFS expects the anticipated effects of the proposed seismic survey to be similar in nature. Where there are meaningful differences between species or stocks, or groups of species, in anticipated individual responses to activities, impact of expected take on the population due to differences in population status, or impacts on habitat, NMFS has identified species-specific factors to inform the analysis.

NMFS does not anticipate that serious injury or mortality would occur as a result of SIO's proposed seismic survey, even in the absence of proposed mitigation. Thus the proposed authorization does not authorize any mortality. As discussed in the Potential Effects section, non-auditory physical effects, stranding, and vessel strike are not expected to occur.

We propose to authorize a limited number of instances of Level A harassment (Table 8) for four species. However, we believe that any PTS incurred in marine mammals as a result of the proposed activity would be in the form of only a small degree of PTS and not total deafness that would not be likely to affect the fitness of any individuals, because of the constant movement of both the Revelle and of the marine mammals in the project area, as well as the fact that the vessel is not expected to remain in any one area in which individual marine mammals would be expected to concentrate for an extended period of time (i.e., since the duration of exposure to loud sounds will be relatively short). Also, as described above, we expect that marine mammals would be likely to move away from a sound source that represents an aversive stimulus, especially at levels that would be expected to result in PTS, given sufficient notice of the Revelle's approach due to the vessel's relatively low speed when conducting seismic surveys. We expect that the majority of takes would be in the form of short-term Level B behavioral harassment in the form of temporary avoidance of the area or decreased foraging (if such activity were occurring), reactions that are considered to be of low severity and with no lasting biological consequences (e.g., Southall et al., 2007).

Potential impacts to marine mammal habitat were discussed previously in this document (see Potential Effects of the Specified Activity on Marine Mammals and their Habitat). Marine mammal habitat may be impacted by elevated sound levels, but these impacts would be temporary. Feeding behavior is not likely to be significantly impacted, as marine mammals appear to be less likely to exhibit behavioral reactions or avoidance responses while engaged in feeding activities (Richardson et al., 1995). Prey species are mobile and are broadly distributed throughout the project area; therefore, marine mammals that may be temporarily displaced during survey activities are expected to be able to resume foraging once they have moved away from areas with disturbing levels of underwater noise. Because of the temporary nature of the disturbance, the availability of similar habitat and resources in the surrounding area, and the lack of important or unique marine mammal habitat, the impacts to marine mammals and the food sources that they utilize are not expected to cause significant or long-term consequences for individual marine mammals or their populations. In addition, there are no mating or calving areas known to be biologically important to marine mammals within the proposed project area.

The activity is expected to impact a very small percentage of all marine mammal stocks that would be affected by SIO's proposed survey (less than 7 percent each for all marine mammal stocks). Additionally, the acoustic “footprint” of the proposed survey would be very small relative to the ranges of all marine mammals that would potentially be affected. Sound levels would increase in the marine environment in a relatively small area surrounding the vessel compared to the range of the marine mammals within the proposed survey area. The seismic array would be active 24 hours per day throughout the duration of the proposed survey. However, the very brief overall duration of the proposed survey (five days) would further limit potential impacts that may occur as a result of the proposed activity.

The proposed mitigation measures are expected to reduce the number and/or severity of takes by allowing for detection of marine mammals in the vicinity of the vessel by visual and acoustic observers, and by minimizing the severity of any potential exposures via shutdowns of the airgun array. Based on previous monitoring reports for substantially similar activities that have been previously authorized by NMFS, we expect that the proposed mitigation will be effective in preventing at least some extent of potential PTS in marine mammals that may otherwise occur in the absence of the proposed mitigation.

Of the marine mammal species under our jurisdiction that are likely to occur in the project area, the following species are listed as endangered under the ESA: Humpback, blue, fin, sei, and sperm whales. Population estimates for humpback whales for the North Pacific have increased substantially from 1,200 in 1966 to approximately 18,000-20,000 whales in 2004 to 2006 (Calambokidis et al. 2008) indicating a growth rate of 6-7 percent (Carretta et al., 2017). There are currently insufficient data to determine population trends for blue, fin, sei, and sperm whales (Carretta et al., 2017); however, we are proposing to authorize very small numbers of takes for these species (Table 8), relative to their population sizes, therefore we do not expect population-level impacts to any of these species. The other marine mammal species that may be taken by harassment during SIO's seismic survey are not listed as threatened or endangered under the ESA. There is no designated critical habitat for any ESA-listed marine mammals within the project area; and of the non-listed marine mammals for which we propose to authorize take, none are considered “depleted” or “strategic” by NMFS under the MMPA.

NMFS concludes that exposures to marine mammal species and stocks due to SIO's proposed seismic survey would result in only short-term (temporary and short in duration) effects to individuals exposed, or some small degree of PTS to a very small number of individuals of four species.. Animals may temporarily avoid the immediate area, but are not expected to permanently abandon the area. Major shifts in habitat use, distribution, or foraging success are not expected. NMFS does not anticipate the proposed take estimates to impact annual rates of recruitment or survival.

In summary and as described above, the following factors primarily support our preliminary determination that the impacts resulting from this activity are not expected to adversely affect the marine mammal species or stocks through effects on annual rates of recruitment or survival:

• No mortality is anticipated or authorized;

• The anticipated impacts of the proposed activity on marine mammals would primarily be temporary behavioral changes due to avoidance of the area around the survey vessel. The relatively short duration of the proposed survey (5 days) would further limit the potential impacts of any temporary behavioral changes that would occur;

• The number of instances of PTS that may occur are expected to be very small in number (Table 8). Instances of PTS that are incurred in marine mammals would be of a low level, due to constant movement of the vessel and of the marine mammals in the area, and the nature of the survey design (not concentrated in areas of high marine mammal concentration);

• The availability of alternate areas of similar habitat value for marine mammals to temporarily vacate the survey area during the proposed survey to avoid exposure to sounds from the activity;

• The proposed project area does not contain areas of significance for feeding, mating or calving;

• The potential adverse effects on fish or invertebrate species that serve as prey species for marine mammals from the proposed survey would be temporary and spatially limited;

• The proposed mitigation measures, including visual and acoustic monitoring and shutdowns, are expected to minimize potential impacts to marine mammals.

Based on the analysis contained herein of the likely effects of the specified activity on marine mammals and their habitat, and taking into consideration the implementation of the proposed monitoring and mitigation measures, NMFS preliminarily finds that the total marine mammal take from the proposed activity will have a negligible impact on all affected marine mammal species or stocks.

Small Numbers

As noted above, only small numbers of incidental take may be authorized under Section 101(a)(5)(D) of the MMPA for specified activities other than military readiness activities. The MMPA does not define small numbers; so, in practice, where estimated numbers are available, NMFS compares the number of individuals taken to the most appropriate estimation of abundance of the relevant species or stock in our determination of whether an authorization is limited to small numbers of marine mammals. Additionally, other qualitative factors may be considered in the analysis, such as the temporal or spatial scale of the activities. Table 8 provides numbers of take by Level A harassment and Level B harassment proposed for authorization. These are the numbers we use for purposes of the small numbers analysis.

The numbers of marine mammals that we propose for authorization to be taken, for all species and stocks, would be considered small relative to the relevant stocks or populations (approximately 6.8 percent for bottlenose dolphins, and less than 5 percent for all other species and stocks). Based on the analysis contained herein of the proposed activity (including the proposed mitigation and monitoring measures) and the anticipated take of marine mammals, NMFS preliminarily finds that small numbers of marine mammals will be taken relative to the population size of the affected species or stocks.

Unmitigable Adverse Impact Analysis and Determination

There are no relevant subsistence uses of the affected marine mammal stocks or species implicated by this action. Therefore, NMFS has preliminarily determined that the total taking of affected species or stocks would not have an unmitigable adverse impact on the availability of such species or stocks for taking for subsistence purposes.

Endangered Species Act (ESA)

Section 7(a)(2) of the ESA of 1973 (16 U.S.C. 1531 et seq.) requires that each Federal agency insure that any action it authorizes, funds, or carries out is not likely to jeopardize the continued existence of any endangered or threatened species or result in the destruction or adverse modification of designated critical habitat. To ensure ESA compliance for the issuance of IHAs, NMFS consults internally, in this case with the ESA Interagency Cooperation Division, whenever we propose to authorize take for endangered or threatened species.

The NMFS Permits and Conservation Division is proposing to authorize the incidental take of 5 species of marine mammals which are listed under the ESA: The humpback whale (Mexico DPS), sei whale, fin whale, blue whale and sperm whale. We have requested initiation of Section 7 consultation with the Interagency Cooperation Division for the issuance of this IHA. NMFS will conclude the ESA section 7 consultation prior to reaching a determination regarding the proposed issuance of the authorization.

Proposed Authorization

As a result of these preliminary determinations, NMFS proposes to issue an IHA to SIO for conducting a seismic survey in the northeast Pacific Ocean in September, 2017, provided the previously mentioned mitigation, monitoring, and reporting requirements are incorporated. This section contains a draft of the IHA itself. The wording contained in this section is proposed for inclusion in the IHA (if issued).

1. This IHA is valid for a period of one year from the date of issuance.

2. This IHA is valid only for marine geophysical survey activity, as specified in the SIO IHA application and using an airgun array aboard the R/V Revelle with characteristics specified in the application, in the northeast Pacific Ocean.

3. General Conditions.

(a) A copy of this IHA must be in the possession of SIO, the vessel operator and other relevant personnel, the lead PSO, and any other relevant designees of SIO operating under the authority of this IHA.

(b) The species authorized for taking are listed in Table 8. The taking, by Level A and Level B harassment only, is limited to the species and numbers listed in Table 8. Any taking exceeding the authorized amounts listed in Table 8 is prohibited and may result in the modification, suspension, or revocation of this IHA.

(c) The taking by serious injury or death of any species of marine mammal is prohibited and may result in the modification, suspension, or revocation of this IHA.

(d) During use of the airgun(s), if marine mammal species other than those listed in Table 8 are detected by PSOs, the acoustic source must be shut down to avoid unauthorized take.

(e) SIO shall ensure that the vessel operator and other relevant vessel personnel are briefed on all responsibilities, communication procedures, marine mammal monitoring protocol, operational procedures, and IHA requirements prior to the start of survey activity, and when relevant new personnel join the survey operations.

4. Mitigation Requirements.

The holder of this Authorization is required to implement the following mitigation measures:

(b) SIO must use at least three (3) dedicated, trained, NMFS-approved PSO. The PSOs must have no tasks other than to conduct observational effort, record observational data, and communicate with and instruct relevant vessel crew with regard to the presence of marine mammals and mitigation requirements. PSO resumes shall be provided to NMFS for approval.

(c) At least one PSO must have a minimum of 90 days at-sea experience working as a PSO during a deep penetration seismic survey, with no more than eighteen months elapsed since the conclusion of the at-sea experience. One “experienced” visual PSO shall be designated as the lead for the entire protected species observation team. The lead PSO shall serve as primary point of contact for the vessel operator.

(d) Visual Observation.

(i) During survey operations (e.g., any day on which use of the acoustic source is planned to occur; whenever the acoustic source is in the water, whether activated or not), typically two, and minimally one, PSO(s) must be on duty and conducting visual observations at all times during daylight hours (i.e., from 30 minutes prior to sunrise through 30 minutes following sunset).

(ii) Visual monitoring must begin not less than 30 minutes prior to ramp-up, including for nighttime ramp-ups of the airgun array, and must continue until one hour after use of the acoustic source ceases or until 30 minutes past sunset.

(iii) PSOs shall coordinate to ensure 360° visual coverage around the vessel from the most appropriate observation posts and shall conduct visual observations using binoculars and the naked eye while free from distractions and in a consistent, systematic, and diligent manner.

(iv) PSOs may be on watch for a maximum of four consecutive hours followed by a break of at least one hour between watches and may conduct a maximum of 12 hours observation per 24 hour period.

(v) During good conditions (e.g., daylight hours; Beaufort sea state 3 or less), visual PSOs shall conduct observations when the acoustic source is not operating for comparison of sighting rates and behavior with and without use of the acoustic source and between acquisition periods, to the maximum extent practicable.

(e) Exclusion Zone and buffer zone—PSOs shall establish and monitor a 100 m EZ and 200 m buffer zone. The zones shall be based upon radial distance from any element of the airgun array (rather than being based on the center of the array or around the vessel itself). During use of the acoustic source, occurrence of marine mammals outside the EZ but within 200 m from any element of the airgun array shall be communicated to the operator to prepare for potential further mitigation measures as described below. During use of the acoustic source, occurrence of marine mammals within the EZ, or on a course to enter the EZ, shall trigger further mitigation measures as described below.

(i) Ramp-up—A ramp-up procedure, is required at all times as part of the activation of the acoustic source. Ramp-up would begin with one 45 in³ airgun, and the second 45 in³ airgun would be added after 5 minutes.

(ii) If the airgun array has been shut down due to a marine mammal detection, ramp-up shall not occur until all marine mammals have cleared the EZ. A marine mammal is considered to have cleared the EZ if:

(A) It has been visually observed to have left the EZ; or

(B) It has not been observed within the EZ, for 15 minutes (in the case of small odontocetes) or for 30 minutes (in the case of mysticetes and large odontocetes including sperm, pygmy sperm, and beaked whales).

(iii) Thirty minutes of pre-clearance observation of the 100 m EZ and 200 m buffer zone are required prior to ramp-up for any shutdown of longer than 30 minutes. This pre-clearance period may occur during any vessel activity. If any marine mammal (including delphinids) is observed within or approaching the 100 m EZ during the 30 minute pre-clearance period, ramp-up may not begin until the animal(s) has been observed exiting the EZ or until an additional time period has elapsed with no further sightings (i.e., 15 minutes for small odontocetes and 30 minutes for all other species).

(iv) During ramp-up, PSOs shall monitor the 100 m EZ and 200 m buffer zone. Ramp-up may not be initiated if any marine mammal (including delphinids) is observed within or approaching the 100 m EZ. If a marine mammal is observed within or approaching the 100 m EZ during ramp-up, a shutdown shall be implemented as though the full array were operational. Ramp-up may not begin again until the animal(s) has been observed exiting the 100 m EZ or until an additional time period has elapsed with no further sightings (i.e., 15 minutes for small odontocetes and 30 minutes for mysticetes and large odontocetes including sperm, pygmy sperm, and beaked whales).

(v) If the airgun array has been shut down for reasons other than mitigation (e.g., mechanical difficulty) for a period of less than 30 minutes, it may be activated again without ramp-up if PSOs have maintained constant visual observation and no visual detections of any marine mammal have occurred within the buffer zone.

(vi) Ramp-up at night and at times of poor visibility shall only occur where operational planning cannot reasonably avoid such circumstances. Ramp-up may occur at night and during poor visibility if the 100 m EZ and 200 m buffer zone have been continually monitored by visual PSOs for 30 minutes prior to ramp-up with no marine mammal detections.

(vii) The vessel operator must notify a designated PSO of the planned start of ramp-upA designated PSO must be notified again immediately prior to initiating ramp-up procedures and the operator must receive confirmation from the PSO to proceed.

(f) Shutdown requirements—An exclusion zone of 100 m shall be established and monitored by PSOs. If a marine mammal is observed within, entering, or approaching the 100 m exclusion zone all airguns shall be shut down.

(i) Any PSO on duty has the authority to call for shutdown of the airgun array. When there is certainty regarding the need for mitigation action on the basis of visual detection, the relevant PSO(s) must call for such action immediately.

(ii) The operator must establish and maintain clear lines of communication directly between PSOs on duty and crew controlling the airgun array to ensure that shutdown commands are conveyed swiftly while allowing PSOs to maintain watch.

(iii) When a shutdown is called for by a PSO, the shutdown must occur and any dispute resolved only following shutdown.

(iv) The shutdown requirement is waived for dolphins of the following genera: Tursiops, Stenella, Delphinus, Lagenorhynchus and Lissodelphis. The shutdown waiver only applies if animals are traveling, including approaching the vessel. If animals are stationary and the vessel approaches the animals, the shutdown requirement applies. If there is uncertainty regarding identification (i.e., whether the observed animal(s) belongs to the group described above) or whether the animals are traveling, shutdown must be implemented.

(v) Upon implementation of a shutdown, the source may be reactivated under the conditions described at 4(e)(vi). Where there is no relevant zone (e.g., shutdown due to observation of a calf), a 30-minute clearance period must be observed following the last observation of the animal(s).

(vi) Shutdown of the array is required upon observation of a whale (i.e., sperm whale or any baleen whale) with calf, with “calf” defined as an animal less than two-thirds the body size of an adult observed to be in close association with an adult, at any distance.

(vii) Shutdown of the array is required upon observation of an aggregation (i.e., six or more animals) of large whales of any species (i.e., sperm whale or any baleen whale) that does not appear to be traveling (e.g., feeding, socializing, etc.) at any distance.

(viii) Shutdown of the array is required upon observation of a killer whale at any distance.

(g) Vessel Strike Avoidance—Vessel operator and crew must maintain a vigilant watch for all marine mammals and slow down or stop the vessel or alter course, as appropriate, to avoid striking any marine mammal, unless such action represents a human safety concern. A visual observer aboard the vessel must monitor a vessel strike avoidance zone around the vessel according to the parameters stated below. Visual observers monitoring the vessel strike avoidance zone can be either third-party observers or crew members, but crew members responsible for these duties must be provided sufficient training to distinguish marine mammals from other phenomena.

(i) The vessel must maintain a minimum separation distance of 100 m from large whales, unless such action represents a human safety concern. The following avoidance measures must be taken if a large whale is within 100 m of the vessel:

(A) The vessel must reduce speed and shift the engine to neutral, when feasible, and must not engage the engines until the whale has moved outside of the vessel's path and the minimum separation distance has been established unless such action represents a human safety concern.

(B) If the vessel is stationary, the vessel must not engage engines until the whale(s) has moved out of the vessel's path and beyond 100 m unless such action represents a human safety concern.

(ii) The vessel must maintain a minimum separation distance of 50 m from all other marine mammals, with an exception made for animals described in 4(e)(iv) that approach the vessel. If an animal is encountered during transit, the vessel shall attempt to remain parallel to the animal's course, avoiding excessive speed or abrupt changes in course unless such action represents a human safety concern.

(iii) Vessel speeds must be reduced to 10 knots or less when mother/calf pairs, pods, or large assemblages of cetaceans are observed near the vessel unless such action represents a human safety concern.

(h) Miscellaneous Protocols.

(i) The airgun array must be deactivated when not acquiring data or preparing to acquire data, except as necessary for testing. Unnecessary use of the acoustic source shall be avoided. Operational capacity of 90 in³ (not including redundant backup airguns) must not be exceeded during the survey, except where unavoidable for source testing and calibration purposes. All occasions where activated source volume exceeds notified operational capacity must be noticed to the PSO(s) on duty and fully documented. The lead PSO must be granted access to relevant instrumentation documenting acoustic source power and/or operational volume.

(ii) Testing of the acoustic source involving all elements requires normal mitigation protocols (e.g., ramp-up). Testing limited to individual source elements or strings does not require ramp-up but does require pre-clearance.

5. Monitoring Requirements.

The holder of this Authorization is required to conduct marine mammal monitoring during survey activity. Monitoring shall be conducted in accordance with the following requirements:

(a) The operator must provide a night-vision device suited for the marine environment for use during nighttime ramp-up pre-clearance, at the discretion of the PSOs. At minimum, the device should feature automatic brightness and gain control, bright light protection, infrared illumination, and optics suited for low-light situations.

(b) PSOs must also be equipped with reticle binoculars (e.g., 7 × 50) of appropriate quality (i.e., Fujinon or equivalent), GPS, digital single-lens reflex camera of appropriate quality (i.e., Canon or equivalent), compass, and any other tools necessary to adequately perform necessary tasks, including accurate determination of distance and bearing to observed marine mammals.

(c) PSO Qualifications

(i) PSOs must have successfully completed relevant training, including completion of all required coursework and passing a written and/or oral examination developed for the training program.

(ii) PSOs must have successfully attained a bachelor's degree from an accredited college or university with a major in one of the natural sciences and a minimum of 30 semester hours or equivalent in the biological sciences and at least one undergraduate course in math or statistics. The educational requirements may be waived if the PSO has acquired the relevant skills through alternate experience. Requests for such a waiver must include written justification. Alternate experience that may be considered includes, but is not limited to (1) secondary education and/or experience comparable to PSO duties; (2) previous work experience conducting academic, commercial, or government-sponsored marine mammal surveys; or (3) previous work experience as a PSO; the PSO should demonstrate good standing and consistently good performance of PSO duties.

(d) Data Collection—PSOs must use standardized data forms, whether hard copy or electronic. PSOs shall record detailed information about any implementation of mitigation requirements, including the distance of animals to the acoustic source and description of specific actions that ensued, the behavior of the animal(s), any observed changes in behavior before and after implementation of mitigation, and if shutdown was implemented, the length of time before any subsequent ramp-up of the acoustic source to resume survey. If required mitigation was not implemented, PSOs should submit a description of the circumstances. We require that, at a minimum, the following information be reported:

(i) PSO names and affiliations.

(ii) Dates of departures and returns to port with port name.

(iii) Dates and times (Greenwich Mean Time) of survey effort and times corresponding with PSO effort.

(iv) Vessel location (latitude/longitude) when survey effort begins and ends; vessel location at beginning and end of visual PSO duty shifts.

(v) Vessel heading and speed at beginning and end of visual PSO duty shifts and upon any line change.

(vi) Environmental conditions while on visual survey (at beginning and end of PSO shift and whenever conditions change significantly), including wind speed and direction, Beaufort sea state, Beaufort wind force, swell height, weather conditions, cloud cover, sun glare, and overall visibility to the horizon.

(vii) Factors that may be contributing to impaired observations during each PSO shift change or as needed as environmental conditions change (e.g., vessel traffic, equipment malfunctions).

(viii) Survey activity information, such as acoustic source power output while in operation, number and volume of airguns operating in the array, tow depth of the array, and any other notes of significance (i.e., pre-ramp-up survey, ramp-up, shutdown, testing, shooting, ramp-up completion, end of operations, streamers, etc.).

(ix) If a marine mammal is sighted, the following information should be recorded:

(A) Watch status (sighting made by PSO on/off effort, opportunistic, crew, alternate vessel/platform);

(B) PSO who sighted the animal;

(C) Time of sighting;

(D) Vessel location at time of sighting;

(E) Water depth;

(F) Direction of vessel's travel (compass direction);

(G) Direction of animal's travel relative to the vessel;

(H) Pace of the animal;

(I) Estimated distance to the animal and its heading relative to vessel at initial sighting;

(J) Identification of the animal (e.g., genus/species, lowest possible taxonomic level, or unidentified); also note the composition of the group if there is a mix of species;

(K) Estimated number of animals (high/low/best);

(L) Estimated number of animals by cohort (adults, yearlings, juveniles, calves, group composition, etc.);

(M) Description (as many distinguishing features as possible of each individual seen, including length, shape, color, pattern, scars or markings, shape and size of dorsal fin, shape of head, and blow characteristics);

(N) Detailed behavior observations (e.g., number of blows, number of surfaces, breaching, spyhopping, diving, feeding, traveling; as explicit and detailed as possible; note any observed changes in behavior);

(O) Animal's closest point of approach (CPA) and/or closest distance from the center point of the acoustic source;

(P) Platform activity at time of sighting (e.g., deploying, recovering, testing, shooting, data acquisition, other); and

(Q) Description of any actions implemented in response to the sighting (e.g., delays, shutdown, ramp-up, speed or course alteration, etc.) and time and location of the action.

6. Reporting.

(a) SIO shall submit a draft comprehensive report on all activities and monitoring results within 90 days of the completion of the survey or expiration of the IHA, whichever comes sooner. The report must describe all activities conducted and sightings of marine mammals near the activities, must provide full documentation of methods, results, and interpretation pertaining to all monitoring, and must summarize the dates and locations of survey operations and all marine mammal sightings (dates, times, locations, activities, associated survey activities). Geospatial data regarding locations where the acoustic source was used must be provided as an ESRI shapefile with all necessary files and appropriate metadata. In addition to the report, all raw observational data shall be made available to NMFS. The report must summarize the data collected as required under condition 5(d) of this IHA. The draft report must be accompanied by a certification from the lead PSO as to the accuracy of the report, and the lead PSO may submit directly to NMFS a statement concerning implementation and effectiveness of the required mitigation and monitoring. A final report must be submitted within 30 days following resolution of any comments from NMFS on the draft report.

(b) Reporting injured or dead marine mammals:

(i) In the event that the specified activity clearly causes the take of a marine mammal in a manner not prohibited by this IHA (if issued), such as serious injury or mortality, SIO shall immediately cease the specified activities and immediately report the incident to NMFS. The report must include the following information:

(A) Time, date, and location (latitude/longitude) of the incident;

(B) Vessel's speed during and leading up to the incident;

(C) Description of the incident;

(D) Status of all sound source use in the 24 hours preceding the incident;

(E) Water depth;

(F) Environmental conditions (e.g., wind speed and direction, Beaufort sea state, cloud cover, and visibility);

(G) Description of all marine mammal observations in the 24 hours preceding the incident;

(H) Species identification or description of the animal(s) involved;

(I) Fate of the animal(s); and

(J) Photographs or video footage of the animal(s).

Activities shall not resume until NMFS is able to review the circumstances of the prohibited take. NMFS will work with SIO to determine what measures are necessary to minimize the likelihood of further prohibited take and ensure MMPA compliance. SIO may not resume their activities until notified by NMFS.

(ii) In the event that SIO discovers an injured or dead marine mammal, and the lead observer determines that the cause of the injury or death is unknown and the death is relatively recent (e.g., in less than a moderate state of decomposition), SIO shall immediately report the incident to NMFS. The report must include the same information identified in condition 6(b)(i) of this IHA. Activities may continue while NMFS reviews the circumstances of the incident. NMFS will work with SIO to determine whether additional mitigation measures or modifications to the activities are appropriate.

(iii) In the event that SIO discovers an injured or dead marine mammal, and the lead observer determines that the injury or death is not associated with or related to the specified activities (e.g., previously wounded animal, carcass with moderate to advanced decomposition, or scavenger damage), SIO shall report the incident to NMFS within 24 hours of the discovery. SIO shall provide photographs or video footage or other documentation of the sighting to NMFS.

7. This Authorization may be modified, suspended or withdrawn if the holder fails to abide by the conditions prescribed herein, or if NMFS determines the authorized taking is having more than a negligible impact on the species or stock of affected marine mammals.

Request for Public Comments

We request comment on our analyses, the draft authorization, and any other aspect of this Notice of Proposed IHA for the proposed seismic survey by SIO. Please include with your comments any supporting data or literature citations to help inform our final decision on the request for MMPA authorization.

Dated: August 11, 2017.
Donna Wieting,
Director, Office of Protected Resources, National Marine Fisheries Service.

[FR Doc. 2017-17378 Filed 8-16-17; 8:45 am]

BILLING CODE 3510-22-P